DEPARTMENT OF HOUSING AND URBAN DEVELOPMENT

[Docket No. FR-5375-N-33]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, U.S. Coast Guard, Office of Civil Engineering, Ms. Jennifer Stomber, 2100 Second St., SW., Stop 7901, Washington, DC 20593; (202) 475-5609; COE: Mr. Scott Whiteford, Army Corps of Engineers, Real Estate, CEMP-CR, 441 G Street, NW., Washington, DC 20314; (202) 761-5542; ENERGY: Mr. Mark Price, Department of Energy, Office of Engineering & Construction Management, MA-50, 1000 Independence Ave, SW., Washington, DC 20585: (202) 586-5422; GSA: Mr. Gordon Creed, General Services Administration, Office of Property Disposal, 18th and F St., NW., Washington, DC 20405; (202) 501-0084; VA: Mr. George Szwarcman, Real Property Service, Department of Veterans Affairs, 811 Vermont Ave., NW., Room 555, Washington, DC 20420; (202) 461-8234; (These are not toll-free numbers).

Dated: August 19, 2010.
Mark R. Johnston,
Deputy Assistant Secretary for Special Needs.

TITLE V, FEDERAL SURPLUS PROPERTY PROGRAM; FEDERAL REGISTER REPORT FOR 08/27/2010

Suitable/Available Properties

Building

California

4 Bldgs.

OTH-B Radar Site

Tulelake CA 91634

Landholding Agency: COE

Property Number: 31200840001

Status: Unutilized

Comments: most recent use—communications/vehicle maint., off-site use only

Colorado

Bldg. 2

VAMC

2121 North Avenue

Grand Junction Co: Mesa CO 81501

Landholding Agency: VA

Property Number: 97200430001

Status: Unutilized

Comments: 3298 sq. ft., needs major rehab, presence of asbestos/lead paint

Bldg. 3

VAMC

2121 North Avenue

Grand Junction Co: Mesa CO 81501

Landholding Agency: VA

Property Number: 97200430002

Status: Unutilized

Comments: 7275 sq. ft., needs major rehab, presence of asbestos/lead paint

Georgia

Ft. Benning Railroad Corridor

Cusseta Road

Columbus GA 31401

Landholding Agency: GSA

Property Number: 54201030006

Status: Excess

GSA Number: 4-D-GA-0518AD

Comments: 55 linear acres, multiple easements, most recent use—railroad/utility corridor, portion is under lease until 12/31/2010

Indiana

Bldg. 105, VAMC

East 38th Street

Marion Co: Grant IN 46952

Landholding Agency: VA

Property Number: 97199230006

Status: Excess

Comments: 310 sq. ft., 1 story stone structure, no sanitary or heating facilities, Natl Register of Historic Places

Bldg. 10

VA Northern Indiana Health Care System

Marion Campus, 1700 East 38th Street

Marion Co: Grant IN 46953

Landholding Agency: VA

Property Number: 97199810002

Status: Underutilized

Comments: 16,361 sq. ft., presence of asbestos, most recent use—psychiatric ward, National Register of Historic Places

Bldg. 11

VA Northern Indiana Health Care System

Marion Campus, 1700 East 38th Street

Marion Co: Grant IN 46953

Landholding Agency: VA

Property Number: 97199810003

Status: Underutilized

Comments: 16,361 sq. ft., presence of asbestos, most recent use—psychiatric ward, National Register of Historic Places

Bldg. 18

VA Northern Indiana Health Care System

Marion Campus, 1700 East 38th Street

Marion Co: Grant IN 46953

Landholding Agency: VA

Property Number: 97199810004

Status: Underutilized

Comments: 13,802 sq. ft., presence of asbestos, most recent use—psychiatric ward, National Register of Historic Places

Bldg. 25

VA Northern Indiana Health Care System

Marion Campus, 1700 East 38th Street

Marion Co: Grant IN 46953

Landholding Agency: VA

Property Number: 97199810005

Status: Unutilized

Comments: 32,892 sq. ft., presence of asbestos, most recent use—psychiatric ward, National Register of Historic Places

Bldg. 1

N. Indiana Health Care System

Marion Co: Grant IN 46952

Landholding Agency: VA

Property Number: 97200310001

Status: Unutilized

Comments: 20,287 sq. ft., needs extensive repairs, presence of asbestos, most recent use—patient ward

Bldg. 3

N. Indiana Health Care System

Marion Co: Grant IN 46952

Landholding Agency: VA

Property Number: 97200310002

Status: Unutilized

Comments: 20,550 sq. ft., needs extensive repairs, presence of asbestos, most recent use—patient ward

Bldg. 4

N. Indiana Health Care System

Marion Co: Grant IN 46952

Landholding Agency: VA

Property Number: 97200310003

Status: Unutilized

Comments: 20,550 sq .ft., needs extensive repairs, presence of asbestos, most recent use—patient ward

Bldg. 13

N. Indiana Health Care System

Marion Co: Grant IN 46952

Landholding Agency: VA

Property Number: 97200310004

Status: Unutilized

Comments: 8971 sq. ft., needs extensive repairs, presence of asbestos, most recent use—office

Bldg. 42

N. Indiana Health Care System

Marion Co: Grant IN 46952

Landholding Agency: VA

Property Number: 97200310007

Status: Unutilized

Comments: 5025 sq. ft., needs extensive repairs, presence of asbestos, most recent use—office

Bldg. 60

N. Indiana Health Care System

Marion Co: Grant IN 46952

Landholding Agency: VA

Property Number: 97200310008

Status: Unutilized

Comments: 18,126 sq. ft., needs extensive repairs, presence of asbestos, most recent use—office

Bldg. 122

N. Indiana Health Care System

Marion Co: Grant IN 46952

Landholding Agency: VA

Property Number: 97200310009

Status: Unutilized

Comments: 37,135 sq. ft., needs extensive repairs, presence of asbestos, most recent use—dining hall/kitchen

Iowa

Former SSA Bldg.

3012 Division Street

Burlington IA 52601

Landholding Agency: GSA

Property Number: 54201020005

Status: Excess

GSA Number: 7-G-IA-0508

Comments: 5060 sq. ft., most recent use—office

Kentucky

Green River Lock #3

Rochester Co: Butler KY 42273

Landholding Agency: COE

Property Number: 31199010022

Status: Unutilized

Directions: SR 70 west from Morgantown, KY., approximately 7 miles to site.

Comments: 980 sq. ft.; 2 story wood frame; two story residence; potential utilities; needs major rehab.

Louisiana

FAA Outermarker

St. Charles Parish

New Orleans LA 70094

Landholding Agency: GSA

Property Number: 54201030007

Status: Excess

GSA Number: 7-U-LA-574-1

Comments: 48 sq. ft., legal constraints, mining leases, located near landfill/airport, most recent use—storage

Montana

Bldg. 1

Butte Natl Guard

Butte Co: Silverbow MT 59701

Landholding Agency: COE

Property Number: 31200040010

Status: Unutilized

Comments: 22799 sq. ft., presence of asbestos, most recent use—cold storage, off-site use only

Bldg. 2

Butte Natl Guard

Butte Co: Silverbow MT 59701

Landholding Agency: COE

Property Number: 31200040011

Status: Unutilized

Comments: 3292 sq. ft., most recent use—cold storage, off-site use only

Bldg. 3

Butte Natl Guard

Butte Co: Silverbow MT 59701

Landholding Agency: COE

Property Number: 31200040012

Status: Unutilized

Comments: 964 sq. ft., most recent use—cold storage, off-site use only

Bldg. 4

Butte Natl Guard

Butte Co: Silverbow MT 59701

Landholding Agency: COE

Property Number: 31200040013

Status: Unutilized

Comments: 72 sq. ft., most recent use—cold storage, off-site use only

Bldg. 5

Butte Natl Guard

Butte Co: Silverbow MT 59701

Landholding Agency: COE

Property Number: 31200040014

Status: Unutilized

Comments: 1286 sq. ft., most recent use—cold storage, off-site use only

New York

Bldg. 3

VA Medical Center

Batavia Co: Genesee NY 14020

Landholding Agency: VA

Property Number: 97200520001

Status: Unutilized

Comments: 5840 sq. ft., needs rehab, presence of asbestos, most recent use—offices, eligible for Natl Register of Historic Places

Ohio

Barker Historic House

Willow Island Locks and Dam

Newport Co: Washington OH 45768-9801

Landholding Agency: COE

Property Number: 31199120018

Status: Unutilized

Directions: Located at lock site, downstream of lock and dam structure

Comments: 1600 sq. ft. bldg. with ½ acre of land, 2 story brick frame, needs rehab, on Natl Register of Historic Places, no utilities, off-site use only

Bldg. MURDOT-23142

5153 State Rd

Dover OH 44622

Landholding Agency: COE

Property Number: 31201020001

Status: Unutilized

Comments: 664 sq. ft. office bldg., presence of asbestos/lead paint, off-site use only

Belmont Cty Memorial USAR Ctr

5305 Guernsey St.

Bellaire OH 43906

Landholding Agency: GSA

Property Number: 54201020008

Status: Excess

GSA Number: 1-D-OH-837

Comments: 11,734 sq. ft.—office/drill hall; 2,519 sq. ft.—maint. shop

Army Reserve Center

5301 Hauserman Rd.

Parma Co: Cuyahoga OH 44130

Landholding Agency: GSA

Property Number: 54201020009

Status: Excess

GSA Number: I-D-OH-842

Comments: 29, 212, and 6,097 sq. ft.; most recent use: office, storage, classroom, and drill hall; water damage on 2nd floor; and wetland property

2LT George F. Pennington USARC

2164 Harding Hwy. E.

Marion OH 43302

Landholding Agency: GSA

Property Number: 54201020010

Status: Excess

GSA Number: I-D-OH-838

Comments: 4,396 and 1,325 sq. ft; current use: office and storage; asbestos identified

Pennsylvania

Mahoning Creek Reservoir

New Bethlehem Co: Armstrong PA 16242

Landholding Agency: COE

Property Number: 31199210008

Status: Unutilized

Comments: 1015 sq. ft., 2 story brick residence, off-site use only

Dwelling

Lock 6, Allegheny River, 1260 River Rd.

Freeport Co: Armstrong PA 16229-2023

Landholding Agency: COE

Property Number: 31199620008

Status: Unutilized

Comments: 2652 sq. ft., 3-story brick house, in close proximity to Lock and Dam, available for interim use for nonresidential purposes

Dwelling

Lock 4, Allegheny River

Natrona Co: Allegheny PA 15065-2609

Landholding Agency: COE

Property Number: 31199710009

Status: Unutilized

Comments: 1664 sq. ft., 2-story brick residence, needs repair, off-site use only

Dwelling #1

Crooked Creek Lake

Ford City Co: Armstrong PA 16226-8815

Landholding Agency: COE

Property Number: 31199740002

Status: Excess

Comments: 2030 sq. ft., most recent use—residential, good condition, off-site use only

Dwelling #2

Crooked Creek Lake

Ford City Co: Armstrong PA 16226-8815

Landholding Agency: COE

Property Number: 31199740003

Status: Excess

Comments: 3045 sq. ft., most recent use—residential, good condition, off-site use only

Govt Dwelling

East Branch Lake

Wilcox Co: Elk PA 15870-9709

Landholding Agency: COE

Property Number: 31199740005

Status: Underutilized

Comments: approx. 5299 sq. ft., 1-story, most recent use—residence, off-site use only

Dwelling #1

Loyalhanna Lake

Saltsburg Co: Westmoreland PA 15681-9302

Landholding Agency: COE

Property Number: 31199740006

Status: Excess

Comments: 1996 sq. ft., most recent use—residential, good condition, off-site use only

Dwelling #2

Loyalhanna Lake

Saltsburg Co: Westmoreland PA 15681-9302

Landholding Agency: COE

Property Number: 31199740007

Status: Excess

Comments: 1996 sq. ft., most recent use—residential, good condition, off-site use only

Dwelling #2

Lock 6, 1260 River Road

Freeport Co: Armstrong PA 16229-2023

Landholding Agency: COE

Property Number: 31199740009

Status: Excess

Comments: 2652 sq. ft., most recent use—residential, good condition, off-site use only

Residence A

2045 Pohopoco Drive

Lehighton Co: Carbon PA 18235

Landholding Agency: COE

Property Number: 31200410007

Status: Unutilized

Comments: 1200 sq. ft., presence of asbestos, off-site use only

BEL-007

2145 Pohopco Dr.

Lehighton PA 18235

Landholding Agency: COE

Property Number: 31201030001

Status: Unutilized

Comments: 1188 sq. ft., off-site use only

South Dakota

Camp Crook Bldg. No. 2002

Camp Crook Co: Harding SD 57724

Landholding Agency: GSA

Property Number: 54201020007

Status: Surplus

GSA Number: 7-A-SD-0535-1

Comments: off-site removal only, 2395 sq. ft., needs repair, and presence of asbestos

Virginia

Sewell's Point Substation

Hampton Blvd.

Norfolk VA 23505

Landholding Agency: GSA

Property Number: 54201030009

Status: Excess

GSA Number: 4-N-VA-0753

Comments: 400 sq. ft., permanent utility easement, most recent use—electrical substation

Washington

Fox Island Naval Lab

630 3rd Ave.

Fox Island Co: Pierce WA 98333

Landholding Agency: GSA

Property Number: 54201020012

Status: Surplus

GSA Number: 9-D-WA-1245

Comments: 6405 sq. ft.; current use: office and lab

West Virginia

Harley O. Staggers Bldg.

75 High St.

Morgantown WV 26505

Landholding Agency: GSA

Property Number: 54201020013

Status: Excess

GSA Number: 4-G-WV-0557

Comments: 57,600 sq. ft; future owners must maintain exposure prevention methods (details in deed); most recent use: P.O. and Federal offices

Land

Alabama

VA Medical Center

VAMC

Tuskegee Co: Macon AL 36083

Landholding Agency: VA

Property Number: 97199010053

Status: Underutilized

Comments: 40 acres, buffer to VA Medical Center, potential utilities, undeveloped

Iowa

40.66 acres

VA Medical Center

1515 West Pleasant St.

Knoxville Co: Marion IA 50138

Landholding Agency: VA

Property Number: 97199740002

Status: Unutilized

Comments: golf course, easement requirements

Kentucky

Tract 2625

Barkley Lake, Kentucky, and Tennessee

Cadiz Co: Trigg KY 42211

Landholding Agency: COE

Property Number: 31199010025

Status: Excess

Directions: Adjoining the village of Rockcastle

Comments: 2.57 acres; rolling and wooded

Tract 2709-10 and 2710-2

Barkley Lake, Kentucky and Tennessee

Cadiz Co: Trigg KY 42211

Landholding Agency: COE

Property Number: 31199010026

Status: Excess

Directions: 2½ miles in a southerly direction from the village of Rockcastle

Comments: 2.00 acres; steep and wooded

Tract 2708-1 and 2709-1

Barkley Lake, Kentucky and Tennessee

Cadiz Co: Trigg KY 42211

Landholding Agency: COE

Property Number: 31199010027

Status: Excess

Directions: 2½ miles in a southerly direction from the village of Rockcastle

Comments: 3.59 acres; rolling and wooded; no utilities

Tract 2800

Barkley Lake, Kentucky and Tennessee

Cadiz Co: Trigg KY 42211

Landholding Agency: COE

Property Number: 31199010028

Status: Excess

Directions: 4½ miles in a southeasterly direction from the village of Rockcastle

Comments: 5.44 acres; steep and wooded

Tract 2915

Barkley Lake, Kentucky and Tennessee

Cadiz Co: Trigg KY 42211

Landholding Agency: COE

Property Number: 31199010029

Status: Excess

Directions: 6½ miles west of Cadiz

Comments: 5.76 acres; steep and wooded; no utilities

Tract 2702

Barkley Lake, Kentucky and Tennessee

Cadiz Co: Trigg KY 42211

Landholding Agency: COE

Property Number: 31199010031

Status: Excess

Directions: 1 mile in a southerly direction from the village of Rockcastle

Comments: 4.90 acres; wooded; no utilities

Tract 4318

Barkley Lake, Kentucky and Tennessee

Canton Co: Trigg KY 42212

Landholding Agency: COE

Property Number: 31199010032

Status: Excess

Directions: Trigg Co. adjoining the city of Canton, KY. on the waters of Hopson Creek

Comments: 8.24 acres; steep and wooded

Tract 4502

Barkley Lake, Kentucky and Tennessee

Canton Co: Trigg KY 42212

Landholding Agency: COE

Property Number: 31199010033

Status: Excess

Directions: 3½ miles in a southerly direction from Canton, KY

Comments: 4.26 acres; steep and wooded

Tract 4611

Barkley Lake, Kentucky and Tennessee

Canton Co: Trigg KY 42212

Landholding Agency: COE

Property Number: 31199010034

Status: Excess

Directions: 5 miles south of Canton, KY

Comments: 10.51 acres; steep and wooded; no utilities

Tract 4619

Barkley Lake, Kentucky and Tennessee

Canton Co: Trigg KY 42212

Landholding Agency: COE

Property Number: 31199010035

Status: Excess

Directions: 4½ miles south from Canton, KY

Comments: 2.02 acres; steep and wooded; no utilities

Tract 4817

Barkley Lake, Kentucky and Tennessee

Canton Co: Trigg KY 42212

Landholding Agency: COE

Property Number: 31199010036

Status: Excess

Directions: 6½ miles south of Canton, KY

Comments: 1.75 acres; wooded

Tract 1217

Barkley Lake, Kentucky and Tennessee

Eddyville Co: Lyon KY 42030

Landholding Agency: COE

Property Number: 31199010042

Status: Excess

Directions: On the north side of the Illinois Central Railroad

Comments: 5.80 acres; steep and wooded

Tract 1906

Barkley Lake, Kentucky and Tennessee

Eddyville Co: Lyon KY 42030

Landholding Agency: COE

Property Number: 31199010044

Status: Excess

Directions: Approximately 4 miles east of Eddyville, KY

Comments: 25.86 acres; rolling steep and partially wooded; no utilities

Tract 1907

Barkley Lake, Kentucky and Tennessee

Eddyville Co: Lyon KY 42038

Landholding Agency: COE

Property Number: 31199010045

Status: Excess

Directions: On the waters of Pilfen Creek, 4 miles east of Eddyville, KY

Comments: 8.71 acres; rolling steep and wooded; no utilities

Tract 2001 #1

Barkley Lake, Kentucky and Tennessee

Eddyville Co: Lyon KY 42030

Landholding Agency: COE

Property Number: 31199010046

Status: Excess

Directions: Approximately 4½ miles east of Eddyville, KY

Comments: 47.42 acres; steep and wooded; no utilities

Tract 2001 #2

Barkley Lake, Kentucky and Tennessee

Eddyville Co: Lyon KY 42030

Landholding Agency: COE

Property Number: 31199010047

Status: Excess

Directions: Approximately 4½ miles east of Eddyville, KY

Comments: 8.64 acres; steep and wooded; no utilities

Tract 2005

Barkley Lake, Kentucky and Tennessee

Eddyville Co: Lyon KY 42030

Landholding Agency: COE

Property Number: 31199010048

Status: Excess

Directions: Approximately 5½ miles east of Eddyville, KY

Comments: 4.62 acres; steep and wooded; no utilities

Tract 2307

Barkley Lake, Kentucky and Tennessee

Eddyville Co: Lyon KY 42030

Landholding Agency: COE

Property Number: 31199010049

Status: Excess

Directions: Approximately 7½ miles southeasterly of Eddyville, KY

Comments: 11.43 acres; steep; rolling and wooded; no utilities

Tract 2403

Barkley Lake, Kentucky and Tennessee

Eddyville Co: Lyon KY 42030

Landholding Agency: COE

Property Number: 31199010050

Status: Excess

Directions: 7 miles southeasterly of Eddyville, KY

Comments: 1.56 acres; steep and wooded; no utilities

Tract 2504

Barkley Lake, Kentucky and Tennessee

Eddyville Co: Lyon KY 42030

Landholding Agency: COE

Property Number: 31199010051

Status: Excess

Directions: 9 miles southeasterly of Eddyville, KY

Comments: 24.46 acres; steep and wooded; no utilities

Tract 214

Barkley Lake, Kentucky and Tennessee

Grand Rivers Co: Lyon KY 42045

Landholding Agency: COE

Property Number: 31199010052

Status: Excess

Directions: South of the Illinois Central Railroad, 1 mile east of the Cumberland River

Comments: 5.5 acres; wooded; no utilities

Tract 215

Barkley Lake, Kentucky and Tennessee

Grand Rivers Co: Lyon KY 42045

Landholding Agency: COE

Property Number: 31199010053

Status: Excess

Directions: 5 miles southwest of Kuttawa

Comments: 1.40 acres; wooded; no utilities

Tract 241

Barkley Lake, Kentucky and Tennessee

Grand Rivers Co: Lyon KY 42045

Landholding Agency: COE

Property Number: 31199010054

Status: Excess

Directions: Old Henson Ferry Road, 6 miles west of Kuttawa, KY

Comments: 1.26 acres; steep and wooded; no utilities

Tracts 306, 311, 315 and 325

Barkley Lake, Kentucky and Tennessee

Grand Rivers Co: Lyon KY 42045

Landholding Agency: COE

Property Number: 31199010055

Status: Excess

Directions: 2.5 miles southwest of Kuttawa, KY on the waters of Cypress Creek

Comments: 38.77 acres; steep and wooded; no utilities

Tracts 2305, 2306, and 2400-1

Barkley Lake, Kentucky and Tennessee

Eddyville Co: Lyon KY 42030

Landholding Agency: COE

Property Number: 31199010056

Status: Excess

Directions: 6½ miles southeasterly of Eddyville, KY

Comments: 97.66 acres; steep rolling and wooded; no utilities

Tracts 5203 and 5204

Barkley Lake, Kentucky and Tennessee

Linton Co: Trigg KY 42212

Landholding Agency: COE

Property Number: 31199010058

Status: Excess

Directions: Village of Linton, KY State highway 1254

Comments: 0.93 acres; rolling, partially wooded; no utilities

Tract 5240

Barkley Lake, Kentucky and Tennessee

Linton Co: Trigg KY 42212

Landholding Agency: COE

Property Number: 31199010059

Status: Excess

Directions: 1 mile northwest of Linton, KY

Comments: 2.26 acres; steep and wooded; no utilities

Tract 4628

Barkley Lake, Kentucky and Tennessee

Canton Co: Trigg KY 42212

Landholding Agency: COE

Property Number: 31199011621

Status: Excess

Directions: 4½ miles south from Canton, KY

Comments: 3.71 acres; steep and wooded; subject to utility easements

Tract 4619-B

Barkley Lake, Kentucky and Tennessee

Canton Co: Trigg KY 42212

Landholding Agency: COE

Property Number: 31199011622

Status: Excess

Directions: 4½ miles south from Canton, KY

Comments: 1.73 acres; steep and wooded; subject to utility easements

Tract 2403-B

Barkley Lake, Kentucky and Tennessee

Eddyville Co: Lyon KY 42038

Landholding Agency: COE

Property Number: 31199011623

Status: Unutilized

Directions: 7 miles southeasterly from Eddyville, KY

Comments: 0.70 acres, wooded; subject to utility easements

Tract 241-B

Barkley Lake, Kentucky and Tennessee

Grand Rivers Co: Lyon KY 42045

Landholding Agency: COE

Property Number: 31199011624

Status: Excess

Directions: South of Old Henson Ferry Road, 6 miles west of Kuttawa, KY

Comments: 11.16 acres; steep and wooded; subject to utility easements

Tracts 212 and 237

Barkley Lake, Kentucky and Tennessee

Grand Rivers Co: Lyon KY 42045

Landholding Agency: COE

Property Number: 31199011625

Status: Excess

Directions: Old Henson Ferry Road, 6 miles west of Kuttawa, KY

Comments: 2.44 acres; steep and wooded; subject to utility easements

Tract 215-B

Barkley Lake, Kentucky and Tennessee

Grand Rivers Co: Lyon KY 42045

Landholding Agency: COE

Property Number: 31199011626

Status: Excess

Directions: 5 miles southwest of Kuttawa

Comments: 1.00 acres; wooded; subject to utility easements

Tract 233

Barkley Lake, Kentucky and Tennessee

Grand Rivers Co: Lyon KY 42045

Landholding Agency: COE

Property Number: 31199011627

Status: Excess

Directions: 5 miles southwest of Kuttawa

Comments: 1.00 acres; wooded; subject to utility easements

Tract N-819

Dale Hollow Lake Project

Illwill Creek, Hwy 90

Hobart Co: Clinton KY 42601

Landholding Agency: COE

Property Number: 31199140009

Status: Underutilized

Comments: 91 acres, most recent use—hunting, subject to existing easements

Oklahoma

Pine Creek Lake

Section 27 (See County) Co: McCurtain OK

Landholding Agency: COE

Property Number: 31199010923

Status: Unutilized

Comments: 3 acres; no utilities; subject to right of way for Oklahoma State Highway 3

Pennsylvania

Mahoning Creek Lake

New Bethlehem Co: Armstrong PA 16242-9603

Landholding Agency: COE

Property Number: 31199010018

Status: Excess

Directions: Route 28 north to Belknap, Road #4

Comments: 2.58 acres; steep and densely wooded

Tracts 610, 611, 612

Shenango River Lake

Sharpsville Co: Mercer PA 16150

Landholding Agency: COE

Property Number: 31199011001

Status: Excess

Directions: I-79 North, I-80 West, Exit Sharon. R18 North 4 miles, left on R518, right on Mercer Avenue

Comments: 24.09 acres; subject to flowage easement

Tracts L24, L26

Crooked Creek Lake

Null Co: Armstrong PA 03051

Landholding Agency: COE

Property Number: 31199011011

Status: Unutilized

Directions: Left bank—55 miles downstream of dam

Comments: 7.59 acres; potential for utilities

Portion of Tract L-21A

Crooked Creek Lake, LR 03051

Ford City Co: Armstrong PA 16226

Landholding Agency: COE

Property Number: 31199430012

Status: Unutilized

Comments: Approximately 1.72 acres of undeveloped land, subject to gas rights

South Dakota

Portion/Tract A127

Gavins Point Dam

Yankton SD

Landholding Agency: COE

Property Number: 31200940001

Status: Unutilized

Comments: 0.3018 acre, road right of way

Tennessee

Tract 6827

Barkley Lake

Dover Co: Stewart TN 37058

Landholding Agency: COE

Property Number: 31199010927

Status: Excess

Directions: 2½ miles west of Dover, TN

Comments: .57 acres; subject to existing easements

Tracts 6002-2 and 6010

Barkley Lake

Dover Co: Stewart TN 37058

Landholding Agency: COE

Property Number: 31199010928

Status: Excess

Directions: 3½ miles south of village of Tabaccoport

Comments: 100.86 acres; subject to existing easements

Tract 11516

Barkley Lake

Ashland City Co: Dickson TN 37015

Landholding Agency: COE

Property Number: 31199010929

Status: Excess

Directions: ½ mile downstream from Cheatham Dam

Comments: 26.25 acres; subject to existing easements

Tract 2319

J. Percy Priest Dam and Resorvoir

Murfreesboro Co: Rutherford TN 37130

Landholding Agency: COE

Property Number: 31199010930

Status: Excess

Directions: West of Buckeye Bottom Road

Comments: 14.48 acres; subject to existing easements

Tract 2227

J. Percy Priest Dam and Resorvoir

Murfreesboro Co: Rutherford TN 37130

Landholding Agency: COE

Property Number: 31199010931

Status: Excess

Directions: Old Jefferson Pike

Comments: 2.27 acres; subject to existing easements

Tract 2107

J. Percy Priest Dam and Reservoir

Murfreesboro Co: Rutherford TN 37130

Landholding Agency: COE

Property Number: 31199010932

Status: Excess

Directions: Across Fall Creek near Fall Creek camping area

Comments: 14.85 acres; subject to existing easements

Tracts 2601, 2602, 2603, 2604

Cordell Hull Lake and Dam Project

Doe Row Creek

Gainesboro Co: Jackson TN 38562

Landholding Agency: COE

Property Number: 31199010933

Status: Unutilized

Directions: TN Highway 56

Comments: 11 acres; subject to existing easements

Tract 1911

J. Percy Priest Dam and Reservoir

Murfreesboro Co: Rutherford TN 37130

Landholding Agency: COE

Property Number: 31199010934

Status: Excess

Directions: East of Lamar Road

Comments: 6.92 acres; subject to existing easements

Tract 7206

Barkley Lake

Dover Co: Stewart TN 37058

Landholding Agency: COE

Property Number: 31199010936

Status: Excess

Directions: 2½ miles SE of Dover, TN

Comments: 10.15 acres; subject to existing easements

Tracts 8813, 8814

Barkley Lake

Cumberland Co: Stewart TN 37050

Landholding Agency: COE

Property Number: 31199010937

Status: Excess

Directions: 1½ miles East of Cumberland City

Comments: 96 acres; subject to existing easements

Tract 8911

Barkley Lake

Cumberland City Co: Montgomery TN 37050

Landholding Agency: COE

Property Number: 31199010938

Status: Excess

Directions: 4 miles east of Cumberland City

Comments: 7.7 acres; subject to existing easements

Tract 11503

Barkley Lake

Ashland City Co: Cheatham TN 37015

Landholding Agency: COE

Property Number: 31199010939

Status: Excess

Directions: 2 miles downstream from Cheatham Dam

Comments: 1.1 acres; subject to existing easements

Tracts 11523, 11524

Barkley Lake

Ashland City Co: Cheatham TN 37015

Landholding Agency: COE

Property Number: 31199010940

Status: Excess

Directions: 2½ miles downstream from Cheatham Dam

Comments: 19.5 acres; subject to existing easements

Tract 6410

Barkley Lake

Bumpus Mills Co: Stewart TN 37028

Landholding Agency: COE

Property Number: 31199010941

Status: Excess

Directions: 4½ miles SW. of Bumpus Mills

Comments: 17 acres; subject to existing easements

Tract 9707

Barkley Lake

Palmyer Co: Montgomery TN 37142

Landholding Agency: COE

Property Number: 31199010943

Status: Excess

Directions: 3 miles NE of Palmyer, TN. Highway 149

Comments: 6.6 acres; subject to existing easements

Tract 6949

Barkley Lake

Dover Co: Stewart TN 37058

Landholding Agency: COE

Property Number: 31199010944

Status: Excess

Directions: 1½ miles SE of Dover, TN

Comments: 29.67 acres; subject to existing easements

Tracts 6005 and 6017

Barkley Lake

Dover Co: Stewart TN 37058

Landholding Agency: COE

Property Number: 31199011173

Status: Excess

Directions: 3 miles south of Village of Tobaccoport

Comments: 5 acres; subject to existing easements

Tracts K-1191, K-1135

Old Hickory Lock and Dam

Hartsville Co: Trousdale TN 37074

Landholding Agency: COE

Property Number: 31199130007

Status: Underutilized

Comments: 54 acres, (portion in floodway), most recent use—recreation

Tract A-102

Dale Hollow Lake Project

Canoe Ridge, State Hwy 52

Celina Co: Clay TN 38551

Landholding Agency: COE

Property Number: 31199140006

Status: Underutilized

Comments: 351 acres, most recent use—hunting, subject to existing easements

Tract A-120

Dale Hollow Lake Project

Swann Ridge, State Hwy No. 53

Celina Co: Clay TN 38551

Landholding Agency: COE

Property Number: 31199140007

Status: Underutilized

Comments: 883 acres, most recent use—hunting, subject to existing easements

Tract D-185

Dale Hollow Lake Project

Ashburn Creek, Hwy No. 53

Livingston Co: Clay TN 38570

Landholding Agency: COE

Property Number: 31199140010

Status: Underutilized

Comments: 97 acres, most recent use—hunting, subject to existing easements

Texas

Land

Olin E. Teague Veterans Center

1901 South 1st Street

Temple Co: Bell TX 76504

Landholding Agency: VA

Property Number: 97199010079

Status: Underutilized

Comments: 13 acres, portion formerly landfill, portion near flammable materials, railroad crosses property, potential utilities

Utah

Processing and Disposal Site

Monticello UT 84535

Landholding Agency: GSA

Property Number: 54201030008

Status: Surplus

GSA Number: 7-B-UT-431-AO

Comments: 175.41 acres, permanent utility easement, small portion may have contaminated groundwater, most recent use—grazing/farming

Wisconsin

VA Medical Center

County Highway E

Tomah Co: Monroe WI 54660

Landholding Agency: VA

Property Number: 97199010054

Status: Underutilized

Comments: 12.4 acres, serves as buffer between center and private property, no utilities

Suitable/Unavailable Properties

Building

Alaska

18 Fuel Storage Tanks

Point Barrow Long Range

Radar Site

Barrow AK 99723

Landholding Agency: GSA

Property Number: 54200930009

Status: Excess

GSA Number: 9-D-AK-824

Comments: 18,000-65,000 gallons, off-site use only

Salmonberry Qtrs.

157 Salmonberry

Bethel AK 99559

Landholding Agency: GSA

Property Number: 54200940001

Status: Excess

GSA Number: 9-U-AK-825

Comments: 2600 sq. ft., most recent use—residential

Dalton-Cache Border Station

Mile 42 Haines Highway

Haines AK 99827

Landholding Agency: GSA

Property Number: 54201010019

Status: Excess

GSA Number: 9-G-AK-0833

Directions: Bldgs. 1 and 2

Comments: 1,940 sq. ft., most recent use-residential, and off-site removal only

California

Defense Fuel Support Pt.

Estero Bay Facility

Morro Bay CA 93442

Landholding Agency: GSA

Property Number: 54200810001

Status: Surplus

GSA Number: 9-N-CA-1606

Comments: former 10 acre fuel tank farm w/associated bldgs/pipelines/equipment, possible asbestos/PCBs

Former SSA Bldg.

1230 12th Street

Modesto CA 95354

Landholding Agency: GSA

Property Number: 54201020002

Status: Surplus

GSA Number: 9-G-CA-1610

Comments: 11,957 sq. ft., needs rehab/seismic retrofit work, potential groundwater contamination below site, potential flooding

Illinois

Bldg. 7

Ohio River Locks No. 53

Grand Chain Co: Pulaski IL 62941-9801

Landholding Agency: COE

Property Number: 31199010001

Status: Unutilized

Directions: Ohio River Locks and Dam No. 53 at Grand Chain

Comments: 900 sq. ft.; 1 floor wood frame; most recent use—residence

Bldg. 6

Ohio River Locks No. 53

Grand Chain Co: Pulaski IL 62941-9801

Landholding Agency: COE

Property Number: 31199010002

Status: Unutilized

Directions: Ohio River Locks and Dam No. 53 at Grand Chain

Comments: 900 sq. ft.; one floor wood frame; most recent use—residence

Bldg. 5

Ohio River Locks No. 53

Grand Chain Co: Pulaski IL 62941-9801

Landholding Agency: COE

Property Number: 31199010003

Status: Unutilized

Directions: Ohio River Locks and Dam No. 53 at Grand Chain

Comments: 900 sq. ft.; one floor wood frame; most recent use—residence

Bldg. 4

Ohio River Locks No. 53

Grand Chain Co: Pulaski IL 62941-9801

Landholding Agency: COE

Property Number: 31199010004

Status: Unutilized

Directions: Ohio River Locks and Dam No. 53 at Grand Chain

Comments: 900 sq. ft.; one floor wood frame; most recent use—residence

Bldg. 3

Ohio River Locks No. 53

Grand Chain Co: Pulaski IL 62941-9801

Landholding Agency: COE

Property Number: 31199010005

Status: Unutilized

Directions: Ohio River Locks and Dam No. 53 at Grand Chain

Comments: 900 sq. ft.; one floor wood frame

Bldg. 2

Ohio River Locks No. 53

Grand Chain Co: Pulaski IL 62941-9801

Landholding Agency: COE

Property Number: 31199010006

Status: Unutilized

Directions: Ohio River Locks and Dam No. 53 at Grand Chain

Comments: 900 sq. ft.; one floor wood frame; most recent use—residence

Bldg. 1

Ohio River Locks No. 53

Grand Chain Co: Pulaski IL 62941-9801

Landholding Agency: COE

Property Number: 31199010007

Status: Unutilized

Directions: Ohio River Locks and Dam No. 53 at Grand Chain

Comments: 900 sq. ft.; one floor wood frame; most recent use—residence

Iowa

U.S. Army Reserve

620 West 5th St.

Garner IA 50438

Landholding Agency: GSA

Property Number: 54200920017

Status: Excess

GSA Number: 7-D-IA-0510

Comments: 5743 sq. ft., presence of lead paint, most recent use—offices/classrooms/storage, subject to existing easements

Maine

Border Patrol Station

Rt 1A

Van Buren ME 46278

Landholding Agency: GSA

Property Number: 54200930015

Status: Excess

GSA Number: 1-X-ME-0689

Comments: bldg.—approx. 1717 sq. ft., attached trailer—approx. 460 sq. ft.

Maryland

Federal Office Building

7550 Wisconsin Ave.

Bethesda MD 20814

Landholding Agency: GSA

Property Number: 54200920007

Status: Surplus

GSA Number: GMR-1101-1

Comments: 100,000 sq. ft., 10-story, requires major renovation, limited parking

Michigan

Social Security Bldg.

929 Stevens Road

Flint MI 48503

Landholding Agency: GSA

Property Number: 54200720020

Status: Excess

GSA Number: 1-G-MI-822

Comments: 10,283 sq. ft., most recent use—office

Missouri

Federal Bldg/Courthouse

339 Broadway St.

Cape Girardeau MO 63701

Landholding Agency: GSA

Property Number: 54200840013

Status: Excess

GSA Number: 7-G-MO-0673

Comments: 47,867 sq. ft., possible asbestos/lead paint, needs maintenance & seismic upgrades, 30% occupied—tenants to relocate within 2 yrs

Montana

VA MT Healthcare

210 S. Winchester

Miles City Co: Custer MT 59301

Landholding Agency: VA

Property Number: 97200030001

Status: Underutilized

Comments: 18 buildings, total sq. ft. = 123,851, presence of asbestos, most recent use—clinic/office/food production

New Hampshire

Federal Building

719 Main St.

Parcel ID: 424-124-78

Laconia NH 03246

Landholding Agency: GSA

Property Number: 54200920006

Status: Excess

GSA Number: 1-G-NH-0503

Comments: 31,271 sq. ft., most recent use—office bldg., National Register nomination pending

New Jersey

Camp Pedricktown Sup. Facility

U.S. Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants

Ohio

Bldg.—Berlin Lake

7400 Bedell Road

Berlin Center Co: Mahoning OH 44401-9797

Landholding Agency: COE

Property Number: 31199640001

Status: Unutilized

Comments: 1420 sq. ft., 2-story brick w/garage and basement, most recent use—residential, secured w/alternate access

NIKE Site Cd-46

Felicity OH

Landholding Agency: GSA

Property Number: 31200740015

Status: Excess

GSA Number: 1-D-OH-0832

Comments: 8 bldgs., most recent use—Ohio Air Natl Guard site

PFC Joe R. Hastings

Army Reserve Center

3120 Parkway Dr.

Canton OH 44708

Landholding Agency: GSA

Property Number: 54200840008

Status: Excess

GSA Number: 1-D-OH-835

Comments: 27,603 sq.ft./admin bldg. & vehicle maint. bldg., presence of asbestos/lead paint/radon/PCBs

Oxford USAR Facility

6557 Todd Road

Oxford OH 45056

Landholding Agency: GSA

Property Number: 54201010007

Status: Excess

GSA Number: 1-D-OH-833

Comments: office bldg./mess hall/barracks/simulator bldg./small support bldgs., structures range from good to needing major rehab

Bldg. 116

VA Medical Center

Dayton Co: Montgomery OH 45428

Landholding Agency: VA

Property Number: 97199920002

Status: Unutilized

Comments: 3 floors, potential utilities, needs major rehab, presence of asbestos/lead paint, historic property

Oregon

3 Bldgs/Land

OTHR-B Radar

Cty Rd 514

Christmas Valley OR 97641

Landholding Agency: GSA

Property Number: 54200840003

Status: Excess

GSA Number: 9-D-OR-0768

Comments: 14000 sq. ft. each/2626 acres, most recent use—radar site, right-of-way

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint

Pennsylvania

Tract 403A

Grays Landing Lock Project

Greensboro Co: Greene PA 15338

Landholding Agency: COE

Property Number: 31199430021

Status: Unutilized

Comments: 620 sq. ft., 2-story, needs repair, most recent use—residential, if used for habitation must be flood proofed or removed off-site

Tract 403B

Grays Landing Lock Project

Greensboro Co: Greene PA 15338

Landholding Agency: COE

Property Number: 31199430022

Status: Unutilized

Comments: 1600 sq. ft., 2-story, brick structure, needs repair, most recent use—residential, if used for habitation must be flood proofed or removed off-site

Tract 403C

Grays Landing Lock Project

Greensboro Co: Greene PA 15338

Landholding Agency: COE

Property Number: 31199430023

Status: Unutilized

Comments: 672 sq. ft., 2-story carriage house/stable barn type structure, needs repair, most recent use—storage/garage, if used for habitation must be flood proofed or removed

Tennessee

NOAA Admin. Bldg.

456 S. Illinois Ave.

Oak Ridge TN 38730

Landholding Agency: GSA

Property Number: 54200920015

Status: Excess

GSA Number: 4-B-TN-0664-AA

Comments: 15,955 sq. ft., most recent use—office/storage/lab

Texas

Bldgs. 5, 6, 7

Federal Center

501 West Felix Street

Ft. Worth Co: Tarrant TX 76115

Landholding Agency: GSA

Property Number: 54200640002

Status: Excess

GSA Number: 7-G-TX-0767-3

Comments: 3 warehouses with concrete foundation, off-site use only

Washington

Residence

Turnbull Natl Wildlife Refuge

26010 South Smith Road

Cheney WA 99004

Landholding Agency: GSA

Property Number: 54201010010

Status: Excess

GSA Number: 9-I-WA-1249-AA

Comments: 1600 sq. ft., off-site use only, all costs associated with the move are buyer's responsibility

West Virginia

Naval Reserve Center

841 Jackson Ave.

Huntington WV 25704

Landholding Agency: GSA

Property Number: 54200930014

Status: Excess

GSA Number: 4-N-WV-0555

Comments: 31,215 sq. ft., presence of asbestos/lead paint, most recent use—office

Wisconsin

Bldg. 8

VA Medical Center

County Highway E

Tomah Co: Monroe WI 54660

Landholding Agency: VA

Property Number: 97199010056

Status: Underutilized

Comments: 2200 sq. ft., 2 story wood frame, possible asbestos, potential utilities, structural deficiencies, needs rehab

Bldg. 2

VA Medical Center

5000 West National Ave.

Milwaukee WI 53295

Landholding Agency: VA

Property Number: 97199830002

Status: Underutilized

Comments: 133,730 sq. ft., needs rehab, presence of asbestos/lead paint, most recent use—storage

Land

Arizona

Parking Lot

322 n 2nd Ave.

Phoenix AZ 85003

Landholding Agency: GSA

Property Number: 54200740007

Status: Surplus

GSA Number: AZ-6293-1

Comments: approx. 21,000 sq. ft., parcel in OU3 study area for clean-up

Salt River Project

Pecos/Alma School Road

#USBR-08-020

Chander AZ 85225

Landholding Agency: GSA

Property Number: 54200920001

Status: Surplus

GSA Number: 9-I-AZ-0850

Comments: approx. 34,183 sq. ft., ranges from 10-20 ft. wide, very long and narrow

0.23 acres

87th Ave.

Glendale AZ

Landholding Agency: GSA

Property Number: 54201010005

Status: Excess

GSA Number: 9-I-AZ-853

Comments: 0.23 acres used for irrigation canal

Guadalupe Road Land

Ironwood Road

Apache Junction AZ 95971

Landholding Agency: GSA

Property Number: 54201010012

Status: Surplus

GSA Number: 9-AZ-851-1

Comments: 1.36 acres, most recent use—aqueduct reach

Houston Road Land

Ironwood Road

Apache Junction AZ 85278

Landholding Agency: GSA

Property Number: 54201010013

Status: Surplus

GSA Number: 9-AZ-854

Comments: 5.89 acres, most recent use—aqueduct reach

Land

95th Ave/Bethany Home Rd

Glendale AZ 85306

Landholding Agency: GSA

Property Number: 54201010014

Status: Surplus

GSA Number: 9-AZ-852

Comments: 0.29 acre, most recent use—irrigation canal

California

Quincy Scaling Station

1495 E. Main St.

Quincy CA 95971

Landholding Agency: GSA

Property Number: 54200930004

Status: Surplus

GSA Number: 9-A-CA-1679-1

Comments: 0.98 acre

Iowa

38 acres

VA Medical Center

1515 West Pleasant St.

Knoxville Co: Marion IA 50138

Landholding Agency: VA

Property Number: 97199740001

Status: Unutilized

Comments: golf course

Kansas

Sunflower Hill Club & Cottage Sites

Hwy17/Hwy400

Fall River KS 67047

Landholding Agency: GSA

Property Number: 54201010002

Status: Excess

GSA Number: 7-D-KS-0513

Comments: approx. 126 acres, right-of-way access for roads and power lines

Massachusetts

FAA Site

Massasoit Bridge Rd.

Nantucket MA 02554

Landholding Agency: GSA

Property Number: 54200830026

Status: Surplus

GSA Number: MA-0895

Comments: approx 92 acres, entire parcel within MA Division of Fisheries & Wildlife Natural Heritage & Endangered Species Program

FAA Locator Antenna LOM

Coleman Road

Southhampton MA 01073

Landholding Agency: GSA

Property Number: 54200920005

Status: Excess

GSA Number: MA-0913-AA

Comments: 1.41 acres

Michigan

Former Elf Comm. Facility

3041 County Road

Republic MI 49879

Landholding Agency: GSA

Property Number: 54200840012

Status: Excess

GSA Number: 1-N-MI-0827

Comments: 6.69 acres w/transmiter bldg, support bldg., gatehouse, endangered species

VA Medical Center

5500 Armstrong Road

Battle Creek Co: Calhoun MI 49016

Landholding Agency: VA

Property Number: 97199010015

Status: Underutilized

Comments: 20 acres, used as exercise trails and storage areas, potential utilities

Missouri

Tract LLWAS K3

Mexico City Ave.

Kansas City MO 64153

Landholding Agency: GSA

Property Number: 54200940004

Status: Surplus

GSA Number: 7-U-MO-0687AA

Comments: 0.034 w/easements

Ohio

Former Outer Marker Facility

Cleves Warsaw/Muddy Creek

Cincinnati OH 45233

Landholding Agency: GSA

Property Number: 54201010008

Status: Excess

GSA Number: 1-U-OH-0841

Comments: 0.319 acres, river valley terrain/relatively steep hills

Pennsylvania

East Branch Clarion River Lake

Wilcox Co: Elk PA

Landholding Agency: COE

Property Number: 31199011012

Status: Underutilized

Directions: Free camping area on the right bank off entrance roadway

Comments: 1 acre; most recent use—free campground

Dashields Locks and Dam

(Glenwillard, PA)

Crescent Twp. Co: Allegheny PA 15046-0475

Landholding Agency: COE

Property Number: 31199210009

Status: Unutilized

Comments: 0.58 acres, most recent use—baseball field

approx. 16.88

271 Sterrettania Rd.

Erie PA 16506

Landholding Agency: GSA

Property Number: 54200820011

Status: Surplus

GSA Number: 4-D-PA-0810

Comments: vacant land

VA Medical Center

New Castle Road

Butler Co: Butler PA 16001

Landholding Agency: VA

Property Number: 97199010016

Status: Underutilized

Comments: Approx. 9.29 acres, used for patient recreation, potential utilities

Land No. 645

VA Medical Center

Highland Drive

Pittsburgh Co: Allegheny PA 15206

Landholding Agency: VA

Property Number: 97199010080

Status: Unutilized

Directions: Between Campania and Wiltsie Streets

Comments: 90.3 acres, heavily wooded, property includes dump area and numerous site storm drain outfalls

Land—34.16 acres

VA Medical Center

1400 Black Horse Hill Road

Coatesville Co: Chester PA 19320

Landholding Agency: VA

Property Number: 97199340001

Status: Underutilized

Comments: 34.16 acres, open field, most recent use—recreation/buffer

Texas

Cottonwood Bay

14th St/Skyline Rd.

Grand Prairie TX

Landholding Agency: GSA

Property Number: 54201010004

Status: Surplus

GSA Number: 7-N-TX-846

Comments: 110 acres includes a 79 acre water body, primary storm water discharge basin. remediation responsibilities, subject to all institutional controls

Suitable/To be Excessed

Land

Georgia

Lake Sidney Lanier

null Co: Forsyth GA 30130

Landholding Agency: COE

Property Number: 31199440010

Status: Unutilized

Directions: Located on Two Mile Creek adj. to State Route 369

Comments: 0.25 acres, endangered plant species

Lake Sidney Lanier-3 parcels

Gainesville Co: Hall GA 30503

Landholding Agency: COE

Property Number: 31199440011

Status: Unutilized

Directions: Between Gainesville H.S. and State Route 53 By-Pass

Comments: 3 parcels totalling 5.17 acres, most recent use—buffer zone, endangered plant species

Massachusetts

Buffumville Dam

Flood Control Project

Gale Road

Carlton Co: Worcester MA 01540-0155

Landholding Agency: COE

Property Number: 31199010016

Status: Excess

Directions: Portion of tracts B-200, B-248, B-251, B-204, B-247, B-200 and B-256

Comments: 1.45 acres

Tennessee

Tract D-456

Cheatham Lock and Dam

Ashland Co: Cheatham TN 37015

Landholding Agency: COE

Property Number: 31199010942

Status: Excess

Directions: Right downstream bank of Sycamore Creek

Comments: 8.93 acres; subject to existing easements

Texas

Corpus Christi Ship Channel

Corpus Christi Co: Neuces TX

Landholding Agency: COE

Property Number: 31199240001

Status: Unutilized

Directions: East side of Carbon Plant Road, approx. 14 miles NW of downtown Corpus Christi

Comments: 4.4 acres, most recent use—farm land

Unsuitable Properties

Building

Alabama

Comfort Station

Clailborne Lake

Camden AL 36726

Landholding Agency: COE

Property Number: 31200540001

Status: Unutilized

Reasons: Extensive deterioration

Pumphouse

Dannelly Reservoir

Camden AL 36726

Landholding Agency: COE

Property Number: 31200540002

Status: Unutilized

Reasons: Extensive deterioration

15 Bldgs.

Dauphin Island

Mobile AL

Landholding Agency: Coast Guard

Property Number: 88200930002

Status: Underutilized

Reasons: Secured Area

Bldg. 7

VA Medical Center

Tuskegee Co: Macon AL 36083

Landholding Agency: VA

Property Number: 97199730001

Status: Underutilized

Reasons: Secured Area

Bldg. 8

VA Medical Center

Tuskegee Co: Macon AL 36083

Landholding Agency: VA

Property Number: 97199730002

Status: Underutilized

Reasons: Secured Area

Alaska

Transmitter Bldg. B4A

Loran Station

St. Paul AK 99660

Landholding Agency: Coast Guard

Property Number: 88200920001

Status: Excess

Reasons: Contamination

Arkansas

Dwelling

Bull Shoals Lake/Dry Run Road

Oakland Co: Marion AR 72661

Landholding Agency: COE

Property Number: 31199820001

Status: Unutilized

Reasons: Extensive deterioration

Helena Casting Plant

Helena Co: Phillips AR 72342

Landholding Agency: COE

Property Number: 31200220001

Status: Unutilized

Reasons: Extensive deterioration

BSHOAL-43560

Mountain Home Project

Mountain Home AR 72653

Landholding Agency: COE

Property Number: 31200630001

Status: Unutilized

Reasons: Extensive deterioration

BSHOAL-43561

Mountain Home Project

Mountain Home AR 72653

Landholding Agency: COE

Property Number: 31200630002

Status: Unutilized

Reasons: Extensive deterioration

BSHOAL-43652

Mountain Home Project

Mountain Home AR 72653

Landholding Agency: COE

Property Number: 31200630003

Status: Unutilized

Reasons: Extensive deterioration

NRFORK-48769

Mountain Home Project

Mountain Home AR 72653

Landholding Agency: COE

Property Number: 31200630004

Status: Unutilized

Reasons: Extensive deterioration

Bldgs. 43336, 44910, 44949

Nimrod-Blue Mountain Project

Plainview AR 72858

Landholding Agency: COE

Property Number: 31200630005

Status: Unutilized

Reasons: Extensive deterioration

Bldgs. 44913, 44925

Nimrod-Blue Mountain Project

Plainview AR 72857

Landholding Agency: COE

Property Number: 31200630006

Status: Unutilized

Reasons: Extensive deterioration

Well House

Mountain Home Project

Mountain Home AR 72653

Landholding Agency: COE

Property Number: 31200820001

Status: Unutilized

Reasons: Secured Area

Property 44333, 64120, 44653

Little Rock District

DeQueen AR 71832

Landholding Agency: COE

Property Number: 31201020009

Status: Excess

Reasons: Extensive deterioration

Radio Tower Property

DeQueen Lake

DeQueen AR 71832

Landholding Agency: COE

Property Number: 31201030002

Status: Unutilized

Reasons: Extensive deterioration

California

Soil Testing Lab

Sausalito CA 00000

Landholding Agency: COE

Property Number: 31199920002

Status: Excess

Reasons: Other—contamination

Bldg. S 00108

Sharpe

Lathrop CA 95231

Landholding Agency: COE

Property Number: 31200820002

Status: Underutilized

Reasons: Secured Area

Bldgs. MO3, MO14, MO17

Sandia National Lab

Livermore Co: Alameda CA 94550

Landholding Agency: Energy

Property Number: 41200220001

Status: Excess

Reasons: Extensive deterioration

Bldgs. C920, C921, C922

Sandia Natl Laboratories

Livermore Co: Alameda CA 94551

Landholding Agency: Energy

Property Number: 41200540001

Status: Unutilized

Reasons: Secured Area, Extensive deterioration

Bldg. 175

Livermore National Lab

Livermore CA

Landholding Agency: Energy

Property Number: 41200630001

Status: Excess

Reasons: Secured Area, Within 2000 ft. of flammable or explosive material

Trailer 1403

Livermore National Lab

Livermore CA

Landholding Agency: Energy

Property Number: 41200630003

Status: Excess

Reasons: Secured Area, Within 2000 ft. of flammable or explosive material

Trailer 3703

Livermore National Lab

Livermore CA

Landholding Agency: Energy

Property Number: 41200630004

Status: Excess

Reasons: Secured Area, Within 2000 ft. of flammable or explosive material

Bldg. 363

National Laboratory

Livermore CA

Landholding Agency: Energy

Property Number: 41200710001

Status: Excess

Reasons: Secured Area

Bldgs. 436, 446

National Laboratory

Livermore CA

Landholding Agency: Energy

Property Number: 41200710002

Status: Excess

Reasons: Secured Area

Bldg. 3520

National Laboratory

Livermore CA

Landholding Agency: Energy

Property Number: 41200710003

Status: Excess

Reasons: Within 2000 ft. of flammable or explosive material, Secured Area

Bldgs. 4182, 4184, 4187

National Laboratory

Livermore CA

Landholding Agency: Energy

Property Number: 41200710004

Status: Excess

Reasons: Within 2000 ft. of flammable or explosive material, Secured Area

Bldg. 5974

National Laboratory

Livermore CA

Landholding Agency: Energy

Property Number: 41200710005

Status: Excess

Reasons: Within 2000 ft. of flammable or explosive material, Secured Area

Bldgs. 194A, 198

Lawrence Livermore Natl Lab

Livermore CA

Landholding Agency: Energy

Property Number: 41200720007

Status: Excess

Reasons: Within 2000 ft. of flammable or explosive material, Secured Area

Bldgs. 213, 280

Lawrence Livermore Natl Lab

Livermore CA

Landholding Agency: Energy

Property Number: 41200720008

Status: Excess

Reasons: Within 2000 ft. of flammable or explosive material, Secured Area

Bldgs. 312, 345

Lawrence Livermore Natl Lab

Livermore CA

Landholding Agency: Energy

Property Number: 41200720009

Status: Excess

Reasons: Within 2000 ft. of flammable or explosive material, Secured Area

Bldgs. 2177, 2178

Lawrence Livermore Natl Lab

Livermore CA

Landholding Agency: Energy

Property Number: 41200720010

Status: Excess

Reasons: Within 2000 ft. of flammable or explosive material, Secured Area

Bldgs. 2687, 3777

Lawrence Livermore Natl Lab

Livermore CA

Landholding Agency: Energy

Property Number: 41200720011

Status: Excess

Reasons: Within 2000 ft. of flammable or explosive material, Secured Area

Bldgs. 263, 419

Lawrence Livermore Natl Lab

Livermore CA

Landholding Agency: Energy

Property Number: 41200720012

Status: Excess

Reasons: Within 2000 ft. of flammable or explosive material, Secured Area

Bldgs. 1401, 1402, 1404

Lawrence Livermore Natl Lab

Livermore CA

Landholding Agency: Energy

Property Number: 41200720013

Status: Excess

Reasons: Secured Area, Within 2000 ft. of flammable or explosive material

Bldgs. 1405, 1406, 1407

Lawrence Livermore Natl Lab

Livermore CA

Landholding Agency: Energy

Property Number: 41200720014

Status: Excess

Reasons: Within 2000 ft. of flammable or explosive material, Secured Area

Bldgs. 1408, 1413, 1456

Lawrence Livermore Natl Lab

Livermore CA

Landholding Agency: Energy

Property Number: 41200720015

Status: Excess

Reasons: Within 2000 ft. of flammable or explosive material, Secured Area

Bldg. 2684

Lawrence Livermore Natl Lab

Livermore CA

Landholding Agency: Energy

Property Number: 41200720016

Status: Excess

Reasons: Within 2000 ft. of flammable or explosive material Secured Area

Bldg. CM46A

Sandia Natl Lab

Livermore CA 94551

Landholding Agency: Energy

Property Number: 41200730005

Status: Excess

Reasons: Secured Area

Bldgs. 445, 534

Lawrence Livermore Natl Lab

Livermore CA

Landholding Agency: Energy

Property Number: 41200740001

Status: Excess

Reasons: Secured Area, Within 2000 ft. of flammable or explosive material

4 Bldgs.

Lawrence Livermore Natl Lab

802A, 811, 830, 854A

Livermore CA

Landholding Agency: Energy

Property Number: 41200740002

Status: Excess

Reasons: Within 2000 ft. of flammable or explosive material Secured Area

Bldgs. 8806, 8710, 8711

Lawrence Livermore Natl Lab

Livermore CA

Landholding Agency: Energy

Property Number: 41200740003

Status: Excess

Reasons: Secured Area, Within 2000 ft. of flammable or explosive material

Bldgs. 1492, 1526, 1579

Lawrence Livermore

National Lab

Livermore CA

Landholding Agency: Energy

Property Number: 41200740005

Status: Excess

Reasons: Secured Area

Bldgs. 1601, 1632

Lawrence Livermore

National Lab

Livermore CA

Landholding Agency: Energy

Property Number: 41200740006

Status: Excess

Reasons: Secured Area

Bldgs. 2552, 2685, 2728

Lawrence Livermore

National Lab

Livermore CA

Landholding Agency: Energy

Property Number: 41200740007

Status: Excess

Reasons: Secured Area

Bldgs. 2801, 2802

Lawrence Livermore

National Lab

Livermore CA

Landholding Agency: Energy

Property Number: 41200740008

Status: Excess

Reasons: Secured Area

Bldgs. 3175, 3751, 3775

Lawrence Livermore

National Lab

Livermore CA

Landholding Agency: Energy

Property Number: 41200740009

Status: Excess

Reasons: Secured Area

4 Bldgs.

Lawrence Livermore

National Lab

Livermore CA

Landholding Agency: Energy

Property Number: 41200740010

Status: Excess

Directions: 4161, 4316, 4384, 4388

Reasons: Secured Area

Bldgs. 4406, 4475

Lawrence Livermore

National Lab

Livermore CA

Landholding Agency: Energy

Property Number: 41200740011

Status: Excess

Reasons: Secured Area

Bldgs. 4905, 4906, 4926

Lawrence Livermore

National Lab

Livermore CA

Landholding Agency: Energy

Property Number: 41200740012

Status: Excess

Reasons: Secured Area

Bldg. 5425

Lawrence Livermore

National Lab

Livermore CA

Landholding Agency: Energy

Property Number: 41200740013

Status: Excess

Reasons: Secured Area

10 Bldgs.

Lawrence Livermore Natl Lab

Livermore CA

Landholding Agency: Energy

Property Number: 41200830002

Status: Excess

Directions: 2127, 4302, 4377, 4378, 4383, 5225, 5976, 5979, 5980, 6203

Reasons: Secured Area, Within 2000 ft. of flammable or explosive material

5 Bldgs.

Lawrence Livermore Natl Lab

1481, 1527, 1884, 1885, 1927

Livermore CA

Landholding Agency: Energy

Property Number: 41200840001

Status: Excess

Reasons: Extensive deterioration

Bldgs. 3577, 3982, 4128

Lawrence Livermore Natl Lab

Livermore CA

Landholding Agency: Energy

Property Number: 41200840002

Status: Excess

Reasons: Secured Area

Bldgs. 328, 367, 376

Lawrence Livermore Natl Lab

Livermore CA

Landholding Agency: Energy

Property Number: 41200840008

Status: Excess

Reasons: Within 2000 ft. of flammable or explosive material Secured Area

Bldg. 5125

Lawrence Livermore Natl Lab

Livermore CA

Landholding Agency: Energy

Property Number: 41200840009

Status: Excess

Reasons: Secured Area, Within 2000 ft. of flammable or explosive material

6 Bldgs.

Lawrence Livermore Natl Lab

Livermore CA

Landholding Agency: Energy

Property Number: 41200840010

Status: Excess

Directions: 1407, 1408, 1413, 1492, 1526, 1579

Reasons: Secured Area, Within 2000 ft. of flammable or explosive material

6 Bldgs.

Lawrence Livermore Natl Lab

Livermore CA

Landholding Agency: Energy

Property Number: 41200840011

Status: Excess

Directions: 3775, 4161, 4316, 4388, 4905, 4906

Reasons: Secured Area, Within 2000 ft. of flammable or explosive material

Bldgs. 8710, 8711, 8806

Lawrence Livermore Natl Lab

Livermore CA

Landholding Agency: Energy

Property Number: 41200840012

Status: Excess

Reasons: Secured Area, Within 2000 ft. of flammable or explosive material

6 Bldgs.

Lawrence Livermore Natl Lab

Livermore CA

Landholding Agency: Energy

Property Number: 41200920005

Status: Excess

Directions: 1541, 1878, 2727, 3180, 4107, 5477

Reasons: Secured Area

Bldg. 004J

Lawrence Livermore Natl Lab

Livermore CA

Landholding Agency: Energy

Property Number: 41200930003

Status: Excess

Reasons: Secured Area

Bldg. 050D

Lawrence Berkeley Natl Lab

Berkeley CA 94720

Landholding Agency: Energy

Property Number: 41201020002

Status: Excess

Reasons: Secured Area, Extensive deterioration

Bldg. 1578

Lawrence Livermore Lab

Livermore CA

Landholding Agency: Energy

Property Number: 41201020003

Status: Excess

Reasons: Secured Area

11 Bldgs.

Lawrence Berkeley Nat'l Lab

Berkeley Co: Alameda CA 94720

Landholding Agency: Energy

Property Number: 41201020008

Status: Excess

Directions: Bldg. Nos. 25, 25A, 25B, 44, 44A, 44B, 46C, 46D, 52,52A, and 75A

Reasons: Secured Area

Bldg. 210

Coast Guard Training Center

Petaluma CA 94952

Landholding Agency: Coast Guard

Property Number: 88201020002

Status: Unutilized

Reasons: Secured Area, Extensive deterioration

Bldg. 220

Coast Guard Training Center

Petaluma CA 95452

Landholding Agency: Coast Guard

Property Number: 88201020003

Status: Unutilized

Reasons: Secured Area

Connecticut

Hezekiah S. Ramsdell Farm

West Thompson Lake

North Grosvenordale Co: Windham CT 06255-9801

Landholding Agency: COE

Property Number: 31199740001

Status: Unutilized

Reasons: Extensive deterioration, Floodway

Bldgs. 25 and 26

Prospect Hill Road

Windsor Co: Hartford CT 06095

Landholding Agency: Energy

Property Number: 41199440003

Status: Excess

Reasons: Secured Area

9 Bldgs.

Knolls Atomic Power Lab, Windsor Site

Windsor Co: Hartford CT 06095

Landholding Agency: Energy

Property Number: 41199540004

Status: Excess

Reasons: Secured Area

Bldg. 8, Windsor Site

Knolls Atomic Power Lab

Windsor Co: Hartford CT 06095

Landholding Agency: Energy

Property Number: 41199830006

Status: Unutilized

Reasons: Extensive deterioration

Boathouse

USCG Academy

New London CT 06320

Landholding Agency: Coast Guard

Property Number: 88200930001

Status: Unutilized

Reasons: Extensive deterioration, Secured Area

Florida

Bldg. SF-17

Sub-Office Operations

Clewiston Co: Hendry FL 33440

Landholding Agency: COE

Property Number: 31200430005

Status: Unutilized

Reasons: Extensive deterioration, Secured Area

Bldg. SF-33

Franklin Lock

Alva Co: Lee FL 33920

Landholding Agency: COE

Property Number: 31200620008

Status: Unutilized

Reasons: Extensive deterioration

Bldg. 25

(f) Richmond Naval Air Station

15810 SW 129th Ave.

Miami Co: Dade FL 33177

Landholding Agency: COE

Property Number: 31200620031

Status: Excess

Reasons: Extensive deterioration

Bldg. SF-14

S. Florida Operations Ofc. Reservation

Clewiston Co: Hendry FL 33440

Landholding Agency: COE

Property Number: 31200710001

Status: Unutilized

Reasons: Secured Area

Bldg. L-10

Jim Woodruff Reservoir

Chattachoochee FL 32324

Landholding Agency: COE

Property Number: 31200820003

Status: Unutilized

Reasons: Extensive deterioration

Bldg. SF-78

Lock & Dam

Moore Haven FL

Landholding Agency: COE

Property Number: 31200920026

Status: Unutilized

Reasons: Extensive deterioration

Georgia

Bldg. #WRSH18

West Point Lake

West Point GA 31833

Landholding Agency: COE

Property Number: 31200430006

Status: Unutilized

Reasons: Secured Area

Bldg. W03

West Point Lake

West Point GA 31833

Landholding Agency: COE

Property Number: 31200430007

Status: Unutilized

Reasons: Extensive deterioration, Secured Area, Within 2000 ft. of flammable or explosive material

Gatehouse #W03

West Point Lake

West Point GA 31833-9517

Landholding Agency: COE

Property Number: 31200510001

Status: Unutilized

Reasons: Extensive deterioration

WRSH14, WRSH15, WRSH18

West Point Lake

West Point GA 31833-9517

Landholding Agency: COE

Property Number: 31200510002

Status: Unutilized

Reasons: Extensive deterioration

Pumphouse

Carters Lake

Oakman GA 30732

Landholding Agency: COE

Property Number: 31200520002

Status: Unutilized

Reasons: Extensive deterioration

Vault Toilet

Lake Sidney Lanier

Buford GA 30518

Landholding Agency: COE

Property Number: 31200540003

Status: Unutilized

Reasons: Extensive deterioration

Bldg. WC-19

Walter F. George Lake

Fort Gaines GA 39851

Landholding Agency: COE

Property Number: 31200630007

Status: Unutilized

Reasons: Extensive deterioration

Radio Room

Walter F. George Lake

Ft. Gaines GA 39851

Landholding Agency: COE

Property Number: 31200640004

Status: Unutilized

Reasons: Extensive deterioration

Bldg. JST-16711

Hesters Ferry Campground

Lincoln GA

Landholding Agency: COE

Property Number: 31200710002

Status: Unutilized

Reasons: Extensive deterioration

4 Bldgs.

West Point Lake

WH16, WH18, WR02, WA03

West Point GA 31833

Landholding Agency: COE

Property Number: 31200820004

Status: Unutilized

Reasons: Extensive deterioration

Pumphouse

Carters Lake

Oakman GA 30732

Landholding Agency: COE

Property Number: 31200820005

Status: Unutilized

Reasons: Extensive deterioration

4 Stables

Di-Lane Plantation

Elberton GA 30635

Landholding Agency: COE

Property Number: 31200820006

Status: Unutilized

Reasons: Extensive deterioration

9 Comfort Stations

Hartwell Lake & Dam

Hartwell GA 30643

Landholding Agency: COE

Property Number: 31200920001

Status: Unutilized

Directions: HAR 16099, 16100, 16102, 16555, 16920, 16838, 18482, 18483

Reasons: Extensive deterioration

RBR-19069

Richard B. Russell Lake

Elberton GA 30635

Landholding Agency: COE

Property Number: 31200920002

Status: Unutilized

Reasons: Extensive deterioration

5 Comfort Stations

Hartwell Lake & Dam

Hartwell GA 30643

Landholding Agency: COE

Property Number: 31200920027

Status: Unutilized

Directions: HAR-16113, 18157, 18172, 18357, 18524

Reasons: Extensive deterioration

Well House #3

JST-15732

McCormick GA

Landholding Agency: COE

Property Number: 31200920028

Status: Unutilized

Reasons: Extensive deterioration

Bldgs. LC-05, LC-06, LC-07

West Point Lake

West Point GA 31833

Landholding Agency: COE

Property Number: 31201010001

Status: Unutilized

Reasons: Extensive deterioration

12 Bldgs.

West Point Lake

West Point GA 31833

Landholding Agency: COE

Property Number: 31201020002

Status: Unutilized

Directions: WLC06, LC05, LC06, LC07, RP07, WEC04, WEC05, WYJ03, WH17, WR01, WGB04, RP09

Reasons: Extensive deterioration

HAR-16465, 16179

Hartwell Lake & Dam

Hartwell GA 30643

Landholding Agency: COE

Property Number: 31201020010

Status: Unutilized

Reasons: Extensive deterioration

RBR-16227, RBR-18650

Richard B. Russell Lake & Dam

Elberton GA 30635

Landholding Agency: COE

Property Number: 31201020011

Status: Unutilized

Reasons: Extensive deterioration

Idaho

Bldg. AFD0070

Albeni Falls Dam

Oldtown Co: Bonner ID 83822

Landholding Agency: COE

Property Number: 31199910001

Status: Unutilized

Reasons: Extensive deterioration

Bldg. CPP-691

Idaho National Engineering Laboratory

Scoville Co: Butte ID 83415

Landholding Agency: Energy

Property Number: 41199610003

Status: Unutilized

Reasons: Secured Area

Bldg. TRA-669

Idaho National Engineering Laboratory

Scoville Co: Butte ID 83415

Landholding Agency: Energy

Property Number: 41199610013

Status: Unutilized

Reasons: Secured Area

Bldg. TRA-673

Idaho National Engineering Laboratory

Scoville Co: Butte ID 83415

Landholding Agency: Energy

Property Number: 41199610018

Status: Unutilized

Reasons: Secured Area

Bldg. PBF-620

Idaho National Engineering Laboratory

Scoville Co: Butte ID 83415

Landholding Agency: Energy

Property Number: 41199610019

Status: Unutilized

Reasons: Secured Area

Bldg. PBF-619

Idaho National Engineering Laboratory

Scoville Co: Butte ID 83415

Landholding Agency: Energy

Property Number: 41199610022

Status: Unutilized

Reasons: Secured Area

Bldg. TRA-641

Idaho National Engineering Laboratory

Scoville Co: Butte ID 83415

Landholding Agency: Energy

Property Number: 41199610034

Status: Unutilized

Reasons: Secured Area

Bldg. CF-606

Idaho National Engineering Laboratory

Scoville Co: Butte ID 83415

Landholding Agency: Energy

Property Number: 41199610037

Status: Unutilized

Reasons: Secured Area

Bldgs. CPP638, CPP642

Idaho Natl Eng Lab

Scoville Co: Butte ID 83415

Landholding Agency: Energy

Property Number: 41200410014

Status: Excess

Reasons: Secured Area

Bldg. CPP 743

Idaho Natl Eng lab

Scoville Co: Butte ID 83-415

Landholding Agency: Energy

Property Number: 41200410020

Status: Excess

Reasons: Secured Area

Bldgs. CPP1647, 1653

Idaho Natl Eng Lab

Scoville Co: Butte ID 83415

Landholding Agency: Energy

Property Number: 41200410022

Status: Excess

Reasons: Secured Area

Bldg. CPP1677

Idaho Natl Eng Lab

Scoville Co: Butte ID 83415

Landholding Agency: Energy

Property Number: 41200410023

Status: Excess

Reasons: Secured Area

Bldg. 694

Idaho Natl Eng Lab

Scoville Co: Butte ID 83415

Landholding Agency: Energy

Property Number: 41200410034

Status: Excess

Reasons: Secured Area

Bldgs. CPP1604-CPP1608

Idaho National Eng Lab

Scoville Co: Butte ID 83415

Landholding Agency: Energy

Property Number: 41200430071

Status: Excess

Reasons: Secured Area

Bldgs. CPP1617-CPP1619

Idaho National Eng Lab

Scoville Co: Butte ID 83415

Landholding Agency: Energy

Property Number: 41200430072

Status: Excess

Reasons: Secured Area

6 Bldgs.

Idaho National Eng Lab

Scoville Co: Butte ID 83415

Landholding Agency: Energy

Property Number: 41200430073

Status: Excess

Directions: CPP1631, CPP1634, CPP1635, CPP1636, CPP1637, CPP1638

Reasons: Secured Area

5 Bldgs.

Idaho National Eng Lab

Scoville Co: Butte ID 83415

Landholding Agency: Energy

Property Number: 41200430074

Status: Excess

Directions: CPP1642, CPP1643, CPP1644, CPP1646, CPP1649

Reasons: Secured Area

3 Bldgs.

Idaho National Eng Lab

Scoville Co: Butte ID 83415

Landholding Agency: Energy

Property Number: 41200430075

Status: Excess

Directions: CPP1650, CPP1651, CPP1656

Reasons: Secured Area

5 Bldgs.

Idaho National Eng Lab

Scoville Co: Butte ID 83415

Landholding Agency: Energy

Property Number: 41200430076

Status: Excess

Directions: CPP1662, CPP1663, CPP1671, CPP1673, CPP1674

Reasons: Secured Area

5 Bldgs.

Idaho National Eng Lab

Scoville Co: Butte ID 83415

Landholding Agency: Energy

Property Number: 41200430077

Status: Excess

Directions: CPP1678, CPP1682, CPP1683, CPP1684, CPP1686

Reasons: Secured Area

5 Bldgs.

Idaho National Eng Lab

Scoville Co: Butte ID 83415

Landholding Agency: Energy

Property Number: 41200430078

Status: Excess

Directions: CPP1713, CPP1749, CPP1750, CPP1767, CPP1769

Reasons: Secured Area

5 Bldgs.

Idaho National Eng Lab

Scoville Co: Butte ID 83415

Landholding Agency: Energy

Property Number: 41200430079

Status: Excess

Directions: CPP1770, CPP1771, CPP1772, CPP1774, CPP1776

Reasons: Secured Area

4 Bldgs.

Idaho National Eng Lab

Scoville Co: Butte ID 83415

Landholding Agency: Energy

Property Number: 41200430081

Status: Excess

Directions: CPP1789, CPP1790, CPP1792, CPP1794

Reasons: Secured Area

Bldgs. CPP2701, CPP2706

Idaho National Eng Lab

Scoville Co: Butte ID 83415

Landholding Agency: Energy

Property Number: 41200430082

Status: Excess

Reasons: Secured Area

3 Bldgs.

Idaho National Eng Lab

Scoville Co: Butte ID 83415

Landholding Agency: Energy

Property Number: 41200430089

Status: Excess

Directions: TRA603, TRA604, TRA610

Reasons: Secured Area

Bldg. TAN611

Idaho National Eng Lab

Scoville Co: Butte ID 83415

Landholding Agency: Energy

Property Number: 41200430090

Status: Excess

Reasons: Secured Area

5 Bldgs.

Idaho National Eng Lab

Scoville Co: Butte ID 83415

Landholding Agency: Energy

Property Number: 41200430091

Status: Excess

Directions: TRA626, TRA635, TRA642, TRA648, TRA654

Reasons: Secured Area

Bldg. TAN655

Idaho National Eng Lab

Scoville Co: Butte ID 83415

Landholding Agency: Energy

Property Number: 41200430092

Status: Excess

Reasons: Secured Area

3 Bldgs.

Idaho National Eng Lab

Scoville Co: Butte ID 83415

Landholding Agency: Energy

Property Number: 41200430093

Status: Excess

Directions: TRA657, TRA661, TRA668

Reasons: Secured Area

Bldg. TAN711

Idaho National Eng Lab

Scoville Co: Butte ID 83415

Landholding Agency: Energy

Property Number: 41200430094

Status: Excess

Reasons: Secured Area

6 Bldgs.

Idaho National Eng Lab

Scoville Co: Butte ID 83415

Landholding Agency: Energy

Property Number: 41200430095

Status: Excess

Directions: CPP602-CPP606, CPP609

Reasons: Secured Area

5 Bldgs.

Idaho National Eng Lab

Scoville Co: Butte ID 83415

Landholding Agency: Energy

Property Number: 41200430096

Status: Excess

Directions: CPP611-CPP614, CPP616

Reasons: Secured Area

4 Bldgs.

Idaho National Eng Lab

Scoville Co: Butte ID 83415

Landholding Agency: Energy

Property Number: 41200430097

Status: Excess

Directions: CPP621, CPP626, CPP630, CPP639

Reasons: Secured Area

4 Bldgs.

Idaho National Eng Lab

Scoville Co: Butte ID 83415

Landholding Agency: Energy

Property Number: 41200430098

Status: Excess

Directions: CPP641, CPP644, CPP645, CPP649

Reasons: Secured Area

Bldgs. CPP651-CPP655

Idaho National Eng Lab

Scoville Co: Butte ID 83415

Landholding Agency: Energy

Property Number: 41200430099

Status: Excess

Reasons: Secured Area

Bldgs. CPP659-CPP663

Idaho National Eng Lab

Scoville Co: Butte ID 83415

Landholding Agency: Energy

Property Number: 41200440001

Status: Excess

Reasons: Secured Area

Bldgs. CPP666, CPP668

Idaho National Eng Lab

Scoville Co: Butte ID 83415

Landholding Agency: Energy

Property Number: 41200440002

Status: Excess

Reasons: Secured Area

1 Bldgs.

Idaho National Eng Lab

Scoville Co: Butte ID 83415

Landholding Agency: Energy

Property Number: 41200440004

Status: Excess

Directions: CPP684

Reasons: Secured Area

5 Bldgs.

Idaho National Eng Lab

Scoville Co: Butte ID 83415

Landholding Agency: Energy

Property Number: 41200440005

Status: Excess

Directions: CPP692, CPP694, CPP697-CPP699

Reasons: Secured Area

3 Bldgs.

Idaho National Eng Lab

Scoville Co: Butte ID 83415

Landholding Agency: Energy

Property Number: 41200440006

Status: Excess

Directions: CPP701, CPP701A, CPP708

Reasons: Secured Area

Bldgs. 711, 719A

Idaho National Eng Lab

Scoville Co: Butte ID 83415

Landholding Agency: Energy

Property Number: 41200440007

Status: Excess

Reasons: Secured Area

4 Bldgs.

Idaho National Eng Lab

Scoville Co: Butte ID 83415

Landholding Agency: Energy

Property Number: 41200440008

Status: Excess

Directions: CPP724-CPP726, CPP728

Reasons: Secured Area

Bldg. CPP729/741

Idaho National Eng Lab

Scoville Co: Butte ID 83415

Landholding Agency: Energy

Property Number: 41200440012

Status: Excess

Reasons: Secured Area

Bldgs. CPP733, CPP736

Idaho National Eng Lab

Scoville Co: Butte ID 83415

Landholding Agency: Energy

Property Number: 41200440013

Status: Excess

Reasons: Secured Area

Bldgs. CPP740, CPP742

Idaho National Eng Lab

Scoville Co: Butte ID 83415

Landholding Agency: Energy

Property Number: 41200440014

Status: Excess

Reasons: Secured Area

Bldgs. CPP746, CPP748

Idaho National Eng Lab

Scoville Co: Butte ID 83415

Landholding Agency: Energy

Property Number: 41200440015

Status: Excess

Reasons: Secured Area

3 Bldgs.

Idaho National Eng Lab

CPP750, CPP751, CPP752

Scoville Co: Butte ID 83415

Landholding Agency: Energy

Property Number: 41200440016

Status: Excess

Reasons: Secured Area

3 Bldgs.

Idaho National Eng Lab

CPP753, CPP753A, CPP754

Scoville Co: Butte ID 83415

Landholding Agency: Energy

Property Number: 41200440017

Status: Excess

Reasons: Secured Area

Bldgs. CPP760, CPP763

Idaho National Eng Lab

Scoville Co: Butte ID 83415

Landholding Agency: Energy

Property Number: 41200440018

Status: Excess

Reasons: Secured Area

Bldgs. CPP764, CPP765

Idaho National Eng Lab

Scoville Co: Butte ID 83415

Landholding Agency: Energy

Property Number: 41200440019

Status: Excess

Reasons: Secured Area

Bldgs. CPP767, CPP768

Idaho National Eng Lab

Scoville Co: Butte ID 83415

Landholding Agency: Energy

Property Number: 41200440020

Status: Excess

Reasons: Secured Area

Bldgs. CPP791, CPP795

Idaho National Eng Lab

Scoville Co: Butte ID 83415

Landholding Agency: Energy

Property Number: 41200440021

Status: Excess

Reasons: Secured Area

3 Bldgs.

Idaho National Eng Lab

CPP796, CPP797, CPP799

Scoville Co: Butte ID 83415

Landholding Agency: Energy

Property Number: 41200440022

Status: Excess

Reasons: Secured Area

Bldgs. CPP701B, CPP719

Idaho National Eng Lab

Scoville Co: Butte ID 83415

Landholding Agency: Energy

Property Number: 41200440023

Status: Excess

Reasons: Secured Area

Bldgs. CPP720A, CPP720B

Idaho National Eng Lab

Scoville Co: Butte ID 83415

Landholding Agency: Energy

Property Number: 41200440024

Status: Excess

Reasons: Secured Area

Bldg. CPP1781

Idaho National Eng Lab

Scoville Co: Butte ID 83415

Landholding Agency: Energy

Property Number: 41200440025

Status: Excess

Reasons: Secured Area

2 Bldgs.

Idaho National Eng Lab

CPP0000VES-UTI-111, VES-UTI-112

Scoville Co: Butte ID 83415

Landholding Agency: Energy

Property Number: 41200440026

Status: Excess

Reasons: Secured Area

Bldgs. TAN704, TAN733

Idaho National Eng Lab

Scoville Co: Butte ID 83415

Landholding Agency: Energy

Property Number: 41200440028

Status: Excess

Reasons: Secured Area

Bldgs. TAN1611, TAN1614

Idaho National Eng Lab

Scoville Co: Butte ID 83415

Landholding Agency: Energy

Property Number: 41200440029

Status: Excess

Reasons: Secured Area

Bldg. CF633

Idaho Natl Laboratory

Scoville Co: Butte ID 83415

Landholding Agency: Energy

Property Number: 41200520005

Status: Excess

Reasons: Extensive deterioration

Bldgs. B23-602, B27-601

Idaho Natl Laboratory

Idaho Falls ID 83415

Landholding Agency: Energy

Property Number: 41200820003

Status: Unutilized

Reasons: Secured Area

Bldgs. CF-635, CF650

Idaho Natl Laboratory

Idaho Falls ID 83415

Landholding Agency: Energy

Property Number: 41200820005

Status: Unutilized

Reasons: Secured Area

Within 2000 ft. of flammable or explosive material

Bldgs. CF-662, CF-692

Idaho Natl Laboratory

Idaho Falls ID 83415

Landholding Agency: Energy

Property Number: 41200820006

Status: Unutilized

Reasons: Secured Area

Extensive deterioration

Bldg. CF-666

Idaho National Laboratory

Idaho Falls ID 83415

Landholding Agency: Energy

Property Number: 41201010005

Status: Unutilized

Reasons: Within 2000 ft. of flammable or explosive material Secured Area

Illinois

Bldg. CB562-7141

Wilborn Creek

Shelbyville IL 62565

Landholding Agency: COE

Property Number: 31200620009

Status: Excess

Reasons: Extensive deterioration

Bldg. CB562-7153

Wilborn Creek

Shelbyville IL 62565

Landholding Agency: COE

Property Number: 31200620010

Status: Excess

Reasons: Extensive deterioration

Bldg. CB562-7162

Bo Wood

Shelbyville IL 62565

Landholding Agency: COE

Property Number: 31200620011

Status: Excess

Reasons: Extensive deterioration

Bldg. CB562-7163

Bo Wood

Shelbyville IL 62565

Landholding Agency: COE

Property Number: 31200620012

Status: Excess

Reasons: Extensive deterioration

Bldg. CB562-7164

Bo Wood

Shelbyville IL 62565

Landholding Agency: COE

Property Number: 31200620013

Status: Excess

Reasons: Extensive deterioration

Bldg. CB562-7165

Bo Wood

Shelbyville IL 62565

Landholding Agency: COE

Property Number: 31200620014

Status: Excess

Reasons: Extensive deterioration

Bldg. CB562-7196

Whitley Creek

Shelbyville IL 62565

Landholding Agency: COE

Property Number: 31200620015

Status: Excess

Reasons: Extensive deterioration

Bldg. CB562-7197

Whitley Creek

Shelbyville IL 62565

Landholding Agency: COE

Property Number: 31200620016

Status: Excess

Reasons: Extensive deterioration

Bldg. CB562-7199

Whitley Creek

Shelbyville IL 62565

Landholding Agency: COE

Property Number: 31200620017

Status: Excess

Reasons: Extensive deterioration

Bldg. CB562-7200

Whitley Creek

Shelbyville IL 62565

Landholding Agency: COE

Property Number: 31200620018

Status: Excess

Reasons: Extensive deterioration

Bldg. CB562-9042

Whitley Creek

Shelbyville IL 62565

Landholding Agency: COE

Property Number: 31200620019

Status: Excess

Reasons: Extensive deterioration

Bldg. CB639-7876

Rend Lake

Benton IL 62812

Landholding Agency: COE

Property Number: 31200620020

Status: Excess

Reasons: Extensive deterioration

Fee Booth

Bo Wood Recreation Area

Shelbyville IL 62565

Landholding Agency: COE

Property Number: 31200630008

Status: Unutilized

Reasons: Extensive deterioration

Comfort Station

Rend Lake

Benton IL 62812

Landholding Agency: COE

Property Number: 31200710004

Status: Excess

Reasons: Extensive deterioration

Comfort Station

Rend Lake Project

Benton IL 62812

Landholding Agency: COE

Property Number: 31200740001

Status: Excess

Reasons: Extensive deterioration

Repair Unit Land

400 Old Rock Rd.

Granite City IL 62040

Landholding Agency: COE

Property Number: 31200920005

Status: Unutilized

Reasons: Extensive deterioration

22 Comfort Stations

Carlyle Lake Project

Carlyle IL 62231

Landholding Agency: COE

Property Number: 31200920032

Status: Unutilized

Directions: CB561-7908, 7909, 7911, 7926, 7927, 7997, 7998, 7999, 8016, 8035, 8037, 8038, 8039, 8040, 8041, 8042, 8078, 8079, 8081, 8097, 8106, 8126

Reasons: Extensive deterioration

8 Bldgs.

Lake Shelbyville Project

Shelbyville IL 62565

Landholding Agency: COE

Property Number: 31200920033

Status: Excess

Directions: CB562-7062, 7087, 7088, 7089, 7106, 7140, 7166, 9038

Reasons: Extensive deterioration

23 Bldgs.

Rend Lake Project

Benton IL 62812

Landholding Agency: COE

Property Number: 31200920034

Status: Excess

Directions: CB639-7750, 8771, 7757, 7800, 7801, 7811, 7824, 7833, 7834, 7835, 7836, 7838, 7842, 7840, 7839, 7841, 7850, 7870, 7874, 7875, 7877, 7878, 7891

Reasons: Extensive deterioration

Trailer

Rend Lake Project

Benton IL 62812

Landholding Agency: COE

Property Number: 31200940003

Status: Excess

Reasons: Extensive deterioration

Bldgs. 004R43, 003R60

Carlyle Lake

Clinton IL 62231

Landholding Agency: COE

Property Number: 31201020003

Status: Excess

Reasons: Extensive deterioration

Bldgs. 306A, B, C, TR-5

Argonne National Lab

Argonne IL 60439

Landholding Agency: Energy

Property Number: 41200720017

Status: Excess

Reasons: Secured Area

Bldgs. 310, 330

Argonne National Lab

DuPage IL 60439

Landholding Agency: Energy

Property Number: 41200920007

Status: Excess

Reasons: Contamination; Secured Area

Bldg. 621

FERMILAB

Batavia IL

Landholding Agency: Energy

Property Number: 41201020007

Status: Excess

Reasons: Extensive deterioration, Secured Area

Bldgs. OB1, OB2, OM2

U.S. Coast Guard Station

Calumet Harbor

Chicago IL 60617

Landholding Agency: Coast Guard

Property Number: 88200940005

Status: Excess

Reasons: Secured Area, Extensive deterioration

Indiana

Bldg. 62, VA Medical Center

East 38th Street

Marion Co: Grant IN 46952

Landholding Agency: VA

Property Number: 97199230003

Status: Excess

Reasons: Extensive deterioration

Iowa

Tract 137

Camp Dodge

Johnston Co: Polk IA 50131-1902

Landholding Agency: COE

Property Number: 31200410001

Status: Excess

Reasons: Extensive deterioration

Bldg. 29355

Island View Park

Centerville IA 52544

Landholding Agency: COE

Property Number: 31201010002

Status: Excess

Reasons: Extensive deterioration

Kansas

No. 01017

Kanopolis Project

Marquette Co: Ellsworth KS 67456

Landholding Agency: COE

Property Number: 31200210001

Status: Unutilized

Reasons: Extensive deterioration

6 Bldgs.

Cottonwood Point/Hillsboro Cove

Marion Co: Coffey KS 66861

Landholding Agency: COE

Property Number: 31200340001

Status: Excess

Reasons: Extensive deterioration

20 Bldgs.

Riverside

Burlington Co: Coffey KS 66839-8911

Landholding Agency: COE

Property Number: 31200340002

Status: Excess

Reasons: Extensive deterioration

2 Bldgs.

Canning Creek/Richey Cove

Council Grove Co: Morris KS 66846-9322

Landholding Agency: COE

Property Number: 31200340003

Status: Excess

Reasons: Extensive deterioration

6 Bldgs.

Santa Fe Trail/Outlet Channel

Council Grove Co: Morris KS 66846

Landholding Agency: COE

Property Number: 31200340004

Status: Excess

Reasons: Extensive deterioration

16 Bldgs.

Cottonwood Point

Marion KS

Landholding Agency: COE

Property Number: 31200530003

Status: Excess

Reasons: Extensive deterioration

3 Bldgs.

Damsite PUA

Fall River Co: Greenwood KS 67047

Landholding Agency: COE

Property Number: 31200530004

Status: Excess

Reasons: Extensive deterioration

2 Bldgs.

Damsite PUA

Fall River Co: Greenwood KS 67047

Landholding Agency: COE

Property Number: 31200530005

Status: Excess

Reasons: Extensive deterioration

Bldgs.

Canning Creek

Council Grove Co: Morris KS 66846

Landholding Agency: COE

Property Number: 31200620022

Status: Excess

Reasons: Extensive deterioration

Bldgs. 28370, 28373, 28298

Melvern Lake

Melvern Co: Osage KS 66510

Landholding Agency: COE

Property Number: 31200710006

Status: Excess

Reasons: Extensive deterioration

Bldgs. 51026, 40016

Outlet Park

Junction City KS 66441

Landholding Agency: COE

Property Number: 31201010003

Status: Excess

Reasons: Extensive deterioration

Kentucky

Spring House

Kentucky River Lock and Dam No. 1

Highway 320

Carrollton Co: Carroll KY 41008

Landholding Agency: COE

Property Number: 21199040416

Status: Unutilized

Reasons: Other—Spring House

6-Room Dwelling

Green River Lock and Dam No. 3

Rochester Co: Butler KY 42273

Landholding Agency: COE

Property Number: 31199120010

Status: Unutilized

Directions: Off State Hwy 369, which runs off of Western Ky. Parkway

Reasons: Floodway

2-Car Garage

Green River Lock and Dam No. 3

Rochester Co: Butler KY 42273

Landholding Agency: COE

Property Number: 31199120011

Status: Unutilized

Directions: Off State Hwy 369, which runs off of Western Ky. Parkway

Reasons: Floodway

Office and Warehouse

Green River Lock and Dam No. 3

Rochester Co: Butler KY 42273

Landholding Agency: COE

Property Number: 31199120012

Status: Unutilized

Directions: Off State Hwy 369, which runs off of Western Ky. Parkway

Reasons: Floodway

2 Pit Toilets

Green River Lock and Dam No. 3

Rochester Co: Butler KY 42273

Landholding Agency: COE

Property Number: 31199120013

Status: Unutilized

Reasons: Floodway

Tract 1379

Barkley Lake

Eddyville Co: Lyon KY 42038

Landholding Agency: COE

Property Number: 31200420001

Status: Unutilized

Reasons: Other—landlocked

Tract 4300

Barkley Lake

Cadiz Co: Trigg KY 42211

Landholding Agency: COE

Property Number: 31200420002

Status: Unutilized

Reasons: Floodway

Tracts 317, 318, 319

Barkley Lake

Grand Rivers Co: Lyon KY 42045

Landholding Agency: COE

Property Number: 31200420003

Status: Unutilized

Reasons: Floodway

Steel Structure

Mcalpine Locks

Louisville KY 40212

Landholding Agency: COE

Property Number: 31200440006

Status: Excess

Reasons: Within 2000 ft. of flammable or explosive material Floodway

Comfort Station

Mcalpine Locks

Louisville KY 40212

Landholding Agency: COE

Property Number: 31200440007

Status: Excess

Reasons: Within 2000 ft. of flammable or explosive material Floodway

Shelter

Mcalpine Locks

Louisville KY 40212

Landholding Agency: COE

Property Number: 31200440008

Status: Excess

Reasons: Floodway, Within 2000 ft. of flammable or explosive material

Parking Lot

Mcalpine Locks

Louisville KY 40212

Landholding Agency: COE

Property Number: 31200440009

Status: Excess

Reasons: Within 2000 ft. of flammable or explosive material Floodway

Loading Docks

Nolin Lake

Bee Spring KY 42007

Landholding Agency: COE

Property Number: 31200540006

Status: Unutilized

Reasons: Extensive deterioration

Sewage Treatment Plant

Smith Ridge Rec Area

Campbellsville KY 42718

Landholding Agency: COE

Property Number: 31200740008

Status: Excess

Reasons: Extensive deterioration

Sewage Treatment Plant

Carr Creek Lake

Sassafras KY 41759

Landholding Agency: COE

Property Number: 31200920029

Status: Unutilized

Reasons: Extensive deterioration, Floodway

Sewage Plant, Pump Station

Nolin River Lake

Bee Spring KY

Landholding Agency: COE

Property Number: 31200930005

Status: Excess

Reasons: Extensive deterioration

Launching Ramp

Wolf Creek Dam

Somerset KY 42501

Landholding Agency: COE

Property Number: 31200940005

Status: Unutilized

Reasons: Floodway

Maryland

4 Bldg.

Coast Guard

Annapolis MD 21403

Landholding Agency: Coast Guard

Property Number: 88201010006

Status: Excess

Directions: Qtrs. A-OJ1 and Qtrs. B-OJ2, Qtrs. A-OV4 and Qtrs. B-OV5

Reasons: Secured Area

Massachusetts

Lee House

Knightville Dam Project

Huntington MA

Landholding Agency: COE

Property Number: 31200720003

Status: Unutilized

Reasons: Extensive deterioration

Bldg. 5202

USCG Air Station

Bourne MA 02540

Landholding Agency: Coast Guard

Property Number: 88200810002

Status: Unutilized

Reasons: Secured Area, Extensive deterioration

3 Sheds

USCG Sector Southeastern

Falmouth MA 02543

Landholding Agency: Coast Guard

Property Number: 88200910001

Status: Unutilized

Reasons: Extensive deterioration, Secured Area

5 Bldgs.

USCG Air Station

3434, 3435, 3436, 5424, 5451

Bourne MA 02542

Landholding Agency: Coast Guard

Property Number: 88200920002

Status: Excess

Reasons: Extensive deterioration, Secured Area

Boathouse/Wharf/Pier

USCG Menemsha

Chilmark MA 02535

Landholding Agency: Coast Guard

Property Number: 88201030002

Status: Unutilized

Reasons: Secured Area, Extensive deterioration

Westview Street Wells

Lexington MA 02173

Landholding Agency: VA

Property Number: 97199920001

Status: Unutilized

Reasons: Extensive deterioration

Michigan

Admin. Bldg.

Station Saginaw River

Essexville Co: Bay MI 48732

Landholding Agency: Coast Guard

Property Number: 88200510001

Status: Unutilized

Reasons: Secured Area, Extensive deterioration

Bldg. 001

USCG Sector

Sault Ste Marie MI 49783

Landholding Agency: Coast Guard

Property Number: 88200920003

Status: Unutilized

Reasons: Secured Area

Bldg. 022

U.S. Coast Guard Station

Marquette MI 49855

Landholding Agency: Coast Guard

Property Number: 88200920004

Status: Excess

Reasons: Secured Area

Mississippi

Bldg. CB-70

Columbus Lake

Columbus MS 39701

Landholding Agency: COE

Property Number: 31200820009

Status: Unutilized

Reasons: Extensive deterioration

Bldg. 3053

ERDC

Vicksburg MS 39180

Landholding Agency: COE

Property Number: 31200930008

Status: Unutilized

Reasons: Extensive deterioration

Bldg. 6, Boiler Plant

Biloxi VA Medical Center

Gulfport Co: Harrison MS 39531

Landholding Agency: VA

Property Number: 97199410001

Status: Unutilized

Reasons: Floodway

Bldg. 67

Biloxi VA Medical Center

Gulfport Co: Harrison MS 39531

Landholding Agency: VA

Property Number: 97199410008

Status: Unutilized

Reasons: Extensive deterioration

Bldg. 68

Biloxi VA Medical Center

Gulfport Co: Harrison MS 39531

Landholding Agency: VA

Property Number: 97199410009

Status: Unutilized

Reasons: Extensive deterioration

Missouri

Rec Office

Harry S. Truman Dam

Osceola Co: St. Clair MO 64776

Landholding Agency: COE

Property Number: 31200110001

Status: Unutilized

Reasons: Extensive deterioration

Privy/Nemo Park

Pomme de Terre Lake

Hermitage MO 65668

Landholding Agency: COE

Property Number: 31200120001

Status: Excess

Reasons: Extensive deterioration

Privy No. 1/Bolivar Park

Pomme de Terre Lake

Hermitage MO 65668

Landholding Agency: COE

Property Number: 31200120002

Status: Excess

Reasons: Extensive deterioration

Privy No. 2/Bolivar Park

Pomme de Terre Lake

Hermitage MO 65668

Landholding Agency: COE

Property Number: 31200120003

Status: Excess

Reasons: Extensive deterioration

#07004, 60006, 60007

Crabtree Cove/Stockton Area

Stockton MO 65785

Landholding Agency: COE

Property Number: 31200220007

Status: Excess

Reasons: Extensive deterioration

Bldg.

Old Mill Park Area

Stockton MO 65785

Landholding Agency: COE

Property Number: 31200310007

Status: Excess

Reasons: Extensive deterioration

Stockton Lake Proj. Ofc.

Stockton Co: Cedar MO 65785

Landholding Agency: COE

Property Number: 31200330004

Status: Unutilized

Reasons: Extensive deterioration

House

Tract 1105

Thurnau Mitigation Site

Craig Co: Holt MO 64437

Landholding Agency: COE

Property Number: 31200420005

Status: Unutilized

Reasons: Extensive deterioration

30x36 Barn

Tract 1105

Thurnau Mitigation Site

Craig Co: Holt MO 64437

Landholding Agency: COE

Property Number: 31200420006

Status: Unutilized

Reasons: Extensive deterioration

30x26 Barn

Tract 1105

Thurnau Mitigation Site

Craig Co: Holt MO 64437

Landholding Agency: COE

Property Number: 31200420007

Status: Unutilized

Reasons: Extensive deterioration

30x10 Shed

Tract 1105

Thurnau Mitigation Site

Craig Co: Holt MO 64437

Landholding Agency: COE

Property Number: 31200420008

Status: Unutilized

Reasons: Extensive deterioration

30x26 Shed

Tract 1105

Thurnau Mitigation Site

Craig Co: Holt MO 64437

Landholding Agency: COE

Property Number: 31200420009

Status: Unutilized

Reasons: Extensive deterioration

9x9 Shed

Tract 1105

Thurnau Mitigation Site

Craig Co: Holt MO 64437

Landholding Agency: COE

Property Number: 31200420010

Status: Unutilized

Reasons: Extensive deterioration

Tract 1111

Thurnau Mitigation Site

Craig Co: Holt MO 64437

Landholding Agency: COE

Property Number: 31200420011

Status: Excess

Reasons: Extensive deterioration

Shower

Pomme de Terre Lake

Hermitage Co: Polk MO 65668

Landholding Agency: COE

Property Number: 31200420012

Status: Unutilized

Reasons: Extensive deterioration

11 Bldgs.

Warsaw MO 65355

Landholding Agency: COE

Property Number: 31200430013

Status: Excess

Directions: Fairfield, Tally Bend, Cooper Creek, Shawnee Bend

Reasons: Extensive deterioration

2 Storage Bldgs.

District Service Base

St. Louis MO

Landholding Agency: COE

Property Number: 31200430014

Status: Excess

Reasons: Extensive deterioration

Privy

Pomme de Terre Lake

Wheatland Co: Hickory MO

Landholding Agency: COE

Property Number: 31200440010

Status: Underutilized

Reasons: Floodway

Vault Toilet

Ruark Bluff

Stockton MO

Landholding Agency: COE

Property Number: 31200440011

Status: Excess

Reasons: Extensive deterioration

Comfort Station

Overlook Area

Stockton MO

Landholding Agency: COE

Property Number: 31200440012

Status: Excess

Reasons: Extensive deterioration

Maintenance Building

Missouri River Area

Napoleon Co: Lafayette MO 64074

Landholding Agency: COE

Property Number: 31200510007

Status: Excess

Reasons: Floodway

Bldg. 34001

Orleans Trail Park

Stockton MO 65785

Landholding Agency: COE

Property Number: 31200510008

Status: Excess

Reasons: Extensive deterioration

Bldgs. 34016, 34017

Orleans Trail Park

Stockton MO 65785

Landholding Agency: COE

Property Number: 31200510009

Status: Excess

Reasons: Extensive deterioration

Bldg.

Pomme de Terre Lake

Hermitage MO 65668

Landholding Agency: COE

Property Number: 31200610008

Status: Unutilized

Reasons: Extensive deterioration

Bldgs. 43841, 43919

Clearwater Project

Piedmont MO 63957

Landholding Agency: COE

Property Number: 31200630010

Status: Unutilized

Reasons: Extensive deterioration

Dwelling

Harry S. Truman Project

Roscoe MO

Landholding Agency: COE

Property Number: 31200640013

Status: Unutilized

Reasons: Extensive deterioration

Bldg. 50005

Ruark Bluff East

Stockton MO 65785

Landholding Agency: COE

Property Number: 31200710011

Status: Excess

Reasons: Extensive deterioration

Bldg. 07002

Crabtree Cove Park

Stockton MO 65785

Landholding Agency: COE

Property Number: 31200710012

Status: Excess

Reasons: Extensive deterioration

Comfort Station

Riverlands Way Access

West Alton MO 63386

Landholding Agency: COE

Property Number: 31200710013

Status: Excess

Reasons: Extensive deterioration

Bldg. #55001

Cooper Creek

Warsaw MO 65355

Landholding Agency: COE

Property Number: 31200720005

Status: Excess

Reasons: Extensive deterioration

Bldgs. 40006, 40007

Pomme de Terre Lake

Pittsburg MO 65724

Landholding Agency: COE

Property Number: 31200730012

Status: Excess

Reasons: Extensive deterioration

3 Facilities

Wappapello Lake Project

Wayne MO 63966

Landholding Agency: COE

Property Number: 31200730013

Status: Excess

Reasons: Extensive deterioration

Bldgs. 05004, 05008

Cedar Ridge Park

Stockton MO 65785

Landholding Agency: COE

Property Number: 31200740009

Status: Excess

Reasons: Extensive deterioration

Bldg. 11002

Greenfield Access

Stockton MO 65785

Landholding Agency: COE

Property Number: 31200740010

Status: Excess

Reasons: Extensive deterioration

Bldgs. 14008, 14009, 14010

Hawker Point Park

Stockton MO 65785

Landholding Agency: COE

Property Number: 31200740011

Status: Excess

Reasons: Extensive deterioration

Bldg. 34006

Orleans Trail Park

Stockton MO 65785

Landholding Agency: COE

Property Number: 31200740012

Status: Excess

Reasons: Extensive deterioration

Bldg. ES801-8319

Wappapello Lake Project

Wayne MO 63966

Landholding Agency: COE

Property Number: 31200740013

Status: Excess

Reasons: Extensive deterioration

Bldg. 14004

Hawker Point Park

Stockton MO 65785

Landholding Agency: COE

Property Number: 31200820008

Status: Excess

Reasons: Extensive deterioration

Picnic Shelter

ES801-8357, 009R31

Wappapello MO 63966

Landholding Agency: COE

Property Number: 31200830001

Status: Excess

Reasons: Extensive deterioration

Picnic Shelter

ES801-8358, 009R32

Wappapello MO 63966

Landholding Agency: COE

Property Number: 31200830002

Status: Excess

Reasons: Extensive deterioration

Bldgs. 23002, 23006

Masters Park

Stockton MO 65785

Landholding Agency: COE

Property Number: 31200840009

Status: Excess

Reasons: Extensive deterioration

Bldgs. 50014, 50015

Ruark Bluff West

Stockton MO 65785

Landholding Agency: COE

Property Number: 31200840010

Status: Excess

Reasons: Extensive deterioration

10 Vault Comfort Station

Mark Twain Lake

Monroe City MO 63456

Landholding Agency: COE

Property Number: 31200920045

Status: Excess

Directions: CC302-7388, 7396, 7413, 7486, 7535, 7536, 7542, 7543, 7552, 7553

Reasons: Extensive deterioration

Picnic Shelter ES801-8343

Wappapello Lake Project

Wappapello MO 63966

Landholding Agency: COE

Property Number: 31200920046

Status: Excess

Reasons: Extensive deterioration

42 Privies

Stockton Project Office

Stockton MO 65785

Landholding Agency: COE

Property Number: 31200920047

Status: Excess

Directions: Cedar Ridge, Crabtree Cove, Hawker Point, High Point, Masters, Mutton Creek, Orleans Trail, Ruark Bluff East, Ruark Bluff West, Stockton Area

Reasons: Extensive deterioration

Bldgs. 47005, 47018

Pomme de Terre Lake

Hermitage MO 65724

Landholding Agency: COE

Property Number: 31200920048

Status: Unutilized

Reasons: Extensive deterioration

30 Bldgs.

Harry S. Truman Reservoir

Warsaw MO 65355

Landholding Agency: COE

Property Number: 31200920049

Status: Unutilized

Directions: 13012, 13014, 13015, 31005, 31006, 31007, 40005, 40006, 40007, 51008, 51009, 60005, 60006, 60007, 60008, 60009, 60010, 70004, 70005, 70006, 13013, 51006, 51007, 51010, 63009, 63011, 70003, 07010, 60016, 63030

Reasons: Extensive deterioration

Bldg. 34010

Orleans Trail Park

Stockton MO

Landholding Agency: COE

Property Number: 31200930006

Status: Excess

Reasons: Extensive deterioration

8 Bldgs.

Harry Truman Reservoir

Warsaw MO 65355

Landholding Agency: COE

Property Number: 31200930007

Status: Unutilized

Directions: #07007, 07008, 07009, 05011, 49008, 49009, 63004, 63005

Reasons: Extensive deterioration

5 Well Houses

Wappapello Lake Project

Wayne MO 63966

Landholding Agency: COE

Property Number: 31200940009

Status: Unutilized

Reasons: Extensive deterioration

CC3029057, CC3027354

Mark Twain Lake

Monroe City MO 63456

Landholding Agency: COE

Property Number: 31201010004

Status: Excess

Reasons: Extensive deterioration

Bldg. 3

VA Medical Center

Jefferson Barracks Division

St. Louis MO 63125

Landholding Agency: VA

Property Number: 97200340001

Status: Underutilized

Reasons: Secured Area

Bldg. 4

VA Medical Center

Jefferson Barracks Division

St. Louis MO

Landholding Agency: VA

Property Number: 97200340002

Status: Underutilized

Reasons: Secured Area

Bldg. 27

VA Medical Center

Jefferson Barracks Division

St. Louis MO 63125

Landholding Agency: VA

Property Number: 97200340003

Status: Underutilized

Reasons: Secured Area

Bldg. 28

VA Medical Center

Jefferson Barracks Division

St. Louis MO 63125

Landholding Agency: VA

Property Number: 97200340004

Status: Underutilized

Reasons: Secured Area

Bldg. 29

VA Medical Center

Jefferson Barracks Division

St. Louis MO 63125

Landholding Agency: VA

Property Number: 97200340005

Status: Underutilized

Reasons: Secured Area

Bldg. 50

VA Medical Center

Jefferson Barracks Division

St. Louis MO 63125

Landholding Agency: VA

Property Number: 97200340006

Status: Underutilized

Reasons: Secured Area

Nebraska

Vault Toilets

Harlan County Project

Republican NE 68971

Landholding Agency: COE

Property Number: 31200210006

Status: Unutilized

Reasons: Extensive deterioration

Patterson Treatment Plant

Harlan County Project

Republican NE 68971

Landholding Agency: COE

Property Number: 31200210007

Status: Unutilized

Reasons: Extensive deterioration

#30004

Harlan County Project

Republican Co: Harlan NE 68971

Landholding Agency: COE

Property Number: 31200220008

Status: Unutilized

Reasons: Extensive deterioration

#3005, 3006

Harlan County Project

Republican Co: Harlan NE 68971

Landholding Agency: COE

Property Number: 31200220009

Status: Unutilized

Reasons: Extensive deterioration

Bldgs. 70001, 70002

South Outlet Park

Republican City NE

Landholding Agency: COE

Property Number: 31200510010

Status: Excess

Reasons: Extensive deterioration

Bldgs. 40002, 40003, 40006

Harlan County Lake

Republican City NE 68971

Landholding Agency: COE

Property Number: 31200610009

Status: Excess

Reasons: Extensive deterioration

Bldg. 40020

Harlan County Lake

Republican City NE 68971

Landholding Agency: COE

Property Number: 31200610010

Status: Excess

Reasons: Extensive deterioration

4 Bldgs.

43004, 43007, 43008, 43009

Republican City NE 68971

Landholding Agency: COE

Property Number: 31200610011

Status: Excess

Reasons: Extensive deterioration

6 Bldgs.

Harlan County Lake

Republican City NE 68971

Landholding Agency: COE

Property Number: 31200610012

Status: Excess

Directions:

50003, 50004, 50005, 50006, 50007, 50008

Reasons: Extensive deterioration

Nevada

28 Facilities

Nevada Test Site

Mercury Co: Nye NV 89023

Landholding Agency: Energy

Property Number: 41200310018

Status: Excess

Reasons: Secured Area, Other—contamination

31 Bldgs./Facilities

Nellis AFB

Tonopah Test Range

Tonopah Co: Nye NV 89049

Landholding Agency: Energy

Property Number: 41200330003

Status: Unutilized

Reasons: Secured Area

42 Bldgs.

Nellis Air Force Base

Tonopah Co: Nye NV 89049

Landholding Agency: Energy

Property Number: 41200410029

Status: Unutilized

Directions: 49-01, NM104, NM105, 03-35A-H, 03-35J-N, 03-36A-C, 03-36E-H, 03-36J-N, 03-36R, 03-37, 15036, 03-44A-D, 03-46, 03-47, 03-49, 03-88, 03-89, 03-90

Reasons: Secured Area

241 Bldgs.

Tonopah Test Range

Tonopah Co: Nye NV 89049

Landholding Agency: Energy

Property Number: 41200440036

Status: Excess

Reasons: Secured Area, Within 2000 ft. of flammable or explosive material

10 Bldgs.

Nevada Test Site

Mercury Co: Nye NV 89023

Landholding Agency: Energy

Property Number: 41200610003

Status: Excess

Reasons: Secured Area

Approx 200 Misc Blgs/Structure

Tonopah Test Range

Tonopah NV 89049

Landholding Agency: Energy

Property Number: 41201020001

Status: Excess

Directions: Nellis AFB

Reasons: Extensive deterioration

New Jersey

Bldg. RPFN OM1

U.S. Coast Guard Station

Fortescue NJ 08321

Landholding Agency: Coast Guard

Property Number: 88200940004

Status: Unutilized

Reasons: Extensive deterioration

New Mexico

Campground Fee Booth

Cochiti Lake Project

Pena Blanca NM 87041

Landholding Agency: COE

Property Number: 31201030003

Status: Unutilized

Reasons: Extensive deterioration

Bldgs. 9252, 9268

Kirtland Air Force Base

Albuquerque Co: Bernalillo NM 87185

Landholding Agency: Energy

Property Number: 41199430002

Status: Unutilized

Reasons: Extensive deterioration

Tech Area II

Kirtland Air Force Base

Albuquerque Co: Bernalillo NM 87105

Landholding Agency: Energy

Property Number: 41199630004

Status: Unutilized

Reasons: Within 2000 ft. of flammable or explosive material, Secured Area, Extensive deterioration

Bldg. 26, TA-33

Los Alamos National Laboratory

Los Alamos NM 87545

Landholding Agency: Energy

Property Number: 41199810004

Status: Unutilized

Reasons: Secured Area, Extensive deterioration

Bldg. 2, TA-21

Los Alamos National Laboratory

Los Alamos NM 87545

Landholding Agency: Energy

Property Number: 41199810008

Status: Underutilized

Reasons: Secured Area

Bldg. 5, TA-21

Los Alamos National Laboratory

Los Alamos NM 87545

Landholding Agency: Energy

Property Number: 41199810011

Status: Unutilized

Reasons: Secured Area

Bldg. 116, TA-21

Los Alamos National Laboratory

Los Alamos NM 87545

Landholding Agency: Energy

Property Number: 41199810013

Status: Unutilized

Reasons: Secured Area

Bldg. 286, TA-21

Los Alamos National Laboratory

Los Alamos NM 87545

Landholding Agency: Energy

Property Number: 41199810016

Status: Unutilized

Reasons: Secured Area

Bldg. 516, TA-16

Los Alamos National Laboratory

Los Alamos NM 87545

Landholding Agency: Energy

Property Number: 41199810021

Status: Unutilized

Reasons: Secured Area, Extensive deterioration, Within 2000 ft. of flammable or explosive material

Bldg. 517, TA-16

Los Alamos National Laboratory

Los Alamos NM 87545

Landholding Agency: Energy

Property Number: 41199810022

Status: Unutilized

Reasons: Extensive deterioration, Secured Area, Within 2000 ft. of flammable or explosive material

Bldg. 31

Los Alamos National Lab

Los Alamos NM 87545

Landholding Agency: Energy

Property Number: 41199930003

Status: Unutilized

Reasons: Secured Area, Extensive deterioration

Bldg. 38, TA-14

Los Alamos National Lab

Los Alamos NM 87545

Landholding Agency: Energy

Property Number: 41199940004

Status: Unutilized

Reasons: Secured Area, Extensive deterioration

Bldg. 9, TA-15

Los Alamos National Lab

Los Alamos NM 87545

Landholding Agency: Energy

Property Number: 41199940006

Status: Unutilized

Reasons: Secured Area

Bldg. 141, TA-15

Los Alamos National Lab

Los Alamos NM 87545

Landholding Agency: Energy

Property Number: 41199940008

Status: Unutilized

Reasons: Secured Area

Bldg. 44, TA-15

Los Alamos National Lab

Los Alamos NM 87545

Landholding Agency: Energy

Property Number: 41199940009

Status: Unutilized

Reasons: Secured Area

Bldg. 2, TA-18

Los Alamos National Lab

Los Alamos NM 87545

Landholding Agency: Energy

Property Number: 41199940010

Status: Unutilized

Reasons: Secured Area, Extensive deterioration

Bldg. 5, TA-18

Los Alamos National Lab

Los Alamos NM 87545

Landholding Agency: Energy

Property Number: 41199940011

Status: Unutilized

Reasons: Secured Area, Extensive deterioration

Bldg. 186, TA-18

Los Alamos National Lab

Los Alamos NM 87545

Landholding Agency: Energy

Property Number: 41199940012

Status: Unutilized

Reasons: Extensive deterioration; Secured Area

Bldg. 188, TA-18

Los Alamos National Lab

Los Alamos NM 87545

Landholding Agency: Energy

Property Number: 41199940013

Status: Unutilized

Reasons: Extensive deterioration, Secured Area

Bldg. 44, TA-36

Los Alamos National Lab

Los Alamos NM 87545

Landholding Agency: Energy

Property Number: 41199940015

Status: Unutilized

Reasons: Extensive deterioration, Secured Area

Bldg. 45, TA-36

Los Alamos National Lab

Los Alamos NM 87545

Landholding Agency: Energy

Property Number: 41199940016

Status: Unutilized

Reasons: Secured Area, Extensive deterioration

Bldg. 258, TA-46

Los Alamos National Lab

Los Alamos NM 87545

Landholding Agency: Energy

Property Number: 41199940019

Status: Unutilized

Reasons: Secured Area, Extensive deterioration

TA-3, Bldg. 208

Los Alamos National Lab

Los Alamos NM 87545

Landholding Agency: Energy

Property Number: 41200010010

Status: Unutilized

Reasons: Extensive deterioration, Secured Area

TA-14, Bldg. 5

Los Alamos National Lab

Los Alamos NM 87545

Landholding Agency: Energy

Property Number: 41200010019

Status: Unutilized

Reasons: Secured Area

TA-21, Bldg. 150

Los Alamos National Lab

Los Alamos NM 87545

Landholding Agency: Energy

Property Number: 41200010020

Status: Unutilized

Reasons: Secured Area

Bldg. 149, TA-21

Los Alamos National Lab

Los Alamos NM 87545

Landholding Agency: Energy

Property Number: 41200010024

Status: Unutilized

Reasons: Secured Area

Bldg. 312, TA-21

Los Alamos National Lab

Los Alamos NM 87545

Landholding Agency: Energy

Property Number: 41200010025

Status: Unutilized

Reasons: Secured Area

Bldg. 313, TA-21

Los Alamos National Lab

Los Alamos NM 87545

Landholding Agency: Energy

Property Number: 41200010026

Status: Unutilized

Reasons: Secured Area

Bldg. 314, TA-21

Los Alamos National Lab

Los Alamos NM 87545

Landholding Agency: Energy

Property Number: 41200010027

Status: Unutilized

Reasons: Secured Area

Bldg. 315, TA-21

Los Alamos National Lab

Los Alamos NM 87545

Landholding Agency: Energy

Property Number: 41200010028

Status: Unutilized

Reasons: Secured Area

Bldg. 1, TA-8

Los Alamos National Lab

Los Alamos NM 87545

Landholding Agency: Energy

Property Number: 41200010029

Status: Unutilized

Reasons: Secured Area

Bldg. 2, TA-8

Los Alamos National Lab

Los Alamos NM 87545

Landholding Agency: Energy

Property Number: 41200010030

Status: Unutilized

Reasons: Secured Area, Extensive deterioration

Bldg. 3, TA-8

Los Alamos National Lab

Los Alamos NM 87545

Landholding Agency: Energy

Property Number: 41200020001

Status: Unutilized

Reasons: Extensive deterioration, Secured Area

Bldg. 51, TA-9

Los Alamos National Lab

Los Alamos NM 87545

Landholding Agency: Energy

Property Number: 41200020002

Status: Unutilized

Reasons: Secured Area

Bldg. 30, TA-14

Los Alamos National Lab

Los Alamos NM 87545

Landholding Agency: Energy

Property Number: 41200020003

Status: Unutilized

Reasons: Secured Area

Bldg. 16, TA-3

Los Alamos National Lab

Los Alamos NM 87545

Landholding Agency: Energy

Property Number: 41200020009

Status: Unutilized

Reasons: Secured Area

Bldg. 48, TA-55

Los Alamos National Lab

Los Alamos NM 87545

Landholding Agency: Energy

Property Number: 41200020017

Status: Unutilized

Reasons: Secured Area

Bldg. 125, TA-55

Los Alamos National Lab

Los Alamos NM 87545

Landholding Agency: Energy

Property Number: 41200020018

Status: Unutilized

Reasons: Secured Area

Bldg. 162, TA-55

Los Alamos National Lab

Los Alamos NM 87545

Landholding Agency: Energy

Property Number: 41200020019

Status: Unutilized

Reasons: Secured Area

Bldg. 22, TA-33

Los Alamos National Lab

Los Alamos NM 87545

Landholding Agency: Energy

Property Number: 41200020022

Status: Unutilized

Reasons: Secured Area, Extensive deterioration

Bldg. 23, TA-49

Los Alamos National Lab

Los Alamos NM 87545

Landholding Agency: Energy

Property Number: 41200020023

Status: Unutilized

Reasons: Secured Area

Bldg. 37, TA-53

Los Alamos National Lab

Los Alamos NM 87545

Landholding Agency: Energy

Property Number: 41200020024

Status: Unutilized

Reasons: Secured Area

Bldg. 121, TA-49

Los Alamos National Lab

Los Alamos NM 87545

Landholding Agency: Energy

Property Number: 41200020025

Status: Unutilized

Reasons: Secured Area

Bldg. B117

Kirtland Operations

Albuquerque Co: Bernalillo NM 87117

Landholding Agency: Energy

Property Number: 41200220032

Status: Excess

Reasons: Extensive deterioration

Bldg. B118

Kirtland Operations

Albuquerque Co: Bernalillo NM 87117

Landholding Agency: Energy

Property Number: 41200220033

Status: Excess

Reasons: Extensive deterioration

Bldg. B119

Kirtland Operations

Albuquerque Co: Bernalillo NM 87117

Landholding Agency: Energy

Property Number: 41200220034

Status: Excess

Reasons: Extensive deterioration

Bldg. 2, TA-11

Los Alamos National Lab

Los Alamos NM 87545

Landholding Agency: Energy

Property Number: 41200240004

Status: Unutilized

Reasons: Secured Area

Bldg. 4, TA-41

Los Alamos National Lab

Los Alamos NM 87545

Landholding Agency: Energy

Property Number: 41200240005

Status: Unutilized

Reasons: Secured Area

Bldg. 116, TA-21

Los Alamos National Lab

Los Alamos NM 87545

Landholding Agency: Energy

Property Number: 41200310003

Status: Unutilized

Reasons: Secured Area

Bldgs. 1, 2, 3, 4, 5, TA-28

Los Alamos National Lab

Los Alamos NM 87545

Landholding Agency: Energy

Property Number: 41200310004

Status: Unutilized

Reasons: Secured Area

Bldgs. 447, 1483

Los Alamos Natl Laboratory

Los Alamos NM

Landholding Agency: Energy

Property Number: 41200410002

Status: Excess

Reasons: Secured Area, Extensive deterioration

Bldg. 99650

Sandia National Laboratory

Albuquerque Co: Bernalillo NM 87185

Landholding Agency: Energy

Property Number: 41200510004

Status: Unutilized

Reasons: Secured Area

Bldgs. 807, 6017 CAMU2&CAMU3

Sandia Natl Laboratories

Albuquerque NM 87185

Landholding Agency: Energy

Property Number: 41200730001

Status: Unutilized

Reasons: Secured Area

Bldg. 6502

Sandia National Lab

Albuquerque NM 87185

Landholding Agency: Energy

Property Number: 41200810002

Status: Unutilized

Reasons: Extensive deterioration, Secured Area

Bldg. 6596

Sandia National Labs

Albuquerque NM 87185

Landholding Agency: Energy

Property Number: 41200920001

Status: Unutilized

Reasons: Extensive deterioration, Secured Area

9 Bldgs.

Los Alamos National Lab

Los Alamos NM

Landholding Agency: Energy

Property Number: 41200920006

Status: Excess

Directions: 08-0026, 08-0030, 08-0065, 16-0193, 16-0242, 16-0244, 16-0897, 16-1489, 55-0107

Reasons: Secured Area

2 Bldgs.

Los Alamos National Lab

18-0257, 18-0258

Los Alamos NM 87545

Landholding Agency: Energy

Property Number: 41200920008

Status: Excess

Reasons: Secured Area, Extensive deterioration

9 Bldgs.

Los Alamos National Lab

Los Alamos NM 87545

Landholding Agency: Energy

Property Number: 41200920009

Status: Excess

Directions: 53-0401, 53-0403, 53-0409, 53-0456, 53-0514, 53-0525, 53-0535, 53-0544, 53-0675

Reasons: Extensive deterioration, Secured Area

6 Bldgs.

Los Alamos National Lab

Los Alamos NM 87545

Landholding Agency: Energy

Property Number: 41200920010

Status: Excess

Directions: 54-0117, 54-0185, 54-210, 54-211, 54-221, 54-221, 60-0282

Reasons: Secured Area, Extensive deterioration

6 Bldgs.

Los Alamos National Lab

Los Alamos NM 87545

Landholding Agency: Energy

Property Number: 41200920011

Status: Excess

Directions: 21-0155, 21-0209, 21-0213, 21-0227, 21-0229, 21-0257

Reasons: Secured Area, Extensive deterioration

8 Bldgs.

Los Alamos National Lab

Los Alamos NM 87545

Landholding Agency: Energy

Property Number: 41200920012

Status: Excess

Directions: 54-0226, 63-0001, 63-0002, 63-0003, 63-0004, 63-0077, 63-0078, 63-0093

Reasons: Secured Area, Extensive deterioration

7 Bldgs.

Los Alamos National Lab

Los Alamos NM

Landholding Agency: Energy

Property Number: 41200930001

Status: Unutilized

Directions: 16-0421, 18-0005, 18-0026, 18-0129, 18-0141, 18-0147, 18-0189

Reasons: Secured Area, Extensive deterioration

7 Bldgs.

Los Alamos National Lab

Los Alamos NM

Landholding Agency: Energy

Property Number: 41200930002

Status: Unutilized

Directions: 52-0035, 52-0036, 52-0105, 52-0123, 60-0045, 69-0002, 69-0005

Reasons: Extensive deterioration, Secured Area

11 Bldgs.

Los Alamas Natl Lab

Los Alamos NM

Landholding Agency: Energy

Property Number: 41200930004

Status: Excess

Directions: 21-0031, 21-0042, 21-0080, 21-0212, 21-0328, 21-0355, 21-0357, 21-0370, 54-0062, 54-0215, 54-0216

Reasons: Secured Area, Extensive deterioration

11 Bldgs.

Los Alamos Natl Lab

Los Alamos NM 87545

Landholding Agency: Energy

Property Number: 41200930005

Status: Excess

Directions: 03-2239, 03-02240, 03-1535, 03-1651, 03-1790, 16-0251, 16-0898, 16-1407, 48-0046, 48-0047, 64-0027

Reasons: Secured Area

5 Bldgs.

Los Alamos National Lab

Los Alamos NM 87545

Landholding Agency: Energy

Property Number: 41200940001

Status: Excess

Directions: 54-0002, 54-0008, 54-0011, 54-0020, 54-0048

Reasons: Secured Area, Extensive deterioration

10 Bldgs.

Los Alamos National Lab

Los Alamos NM 87545

Landholding Agency: Energy

Property Number: 41200940002

Status: Excess

Directions: 54-0153, 54-0156, 54-0224, 54-0242, 54-0281, 54-0282, 54-0289, 54-0464, 54-1051, 54-1052

Reasons: Secured Area, Extensive deterioration

10 Bldgs.

Los Alamos National Lab

Los Alamos NM 87545

Landholding Agency: Energy

Property Number: 41200940003

Status: Excess

Directions: 15-0263, 16-0306, 16-0430, 16-0435, 16-0437, 18-0028, 18-0037, 18-0138, 18-0227, 18-0297

Reasons: Secured Area, Within 2000 ft. of flammable or explosive material

13 Bldgs.

Los Alamos National Lab

Los Alamos NM 87545

Landholding Agency: Energy

Property Number: 41200940004

Status: Unutilized

Directions: 54-0306, 54-0315, 54-0324, 54-0325, 54-1058, 54-0296, 54-0304, 54-0367, 54-0483, 54-1027, 54-1028, 54-1030, 54-1041

Reasons: Secured Area, Extensive deterioration

9 Bldgs.

Los Alamos National Lab

Los Alamos NM 87545

Landholding Agency: Energy

Property Number: 41200940005

Status: Unutilized

Directions: 35-0046, 35-0224, 35-0226, 35-0227, 35-0249, 35-0250, 35-0256, 35-0337, 35-0382

Reasons: Secured Area, Extensive deterioration

4 Bldgs.

Los Alamos National Lab

Los Alamos NM 87545

Landholding Agency: Energy

Property Number: 41201010001

Status: Unutilized

Directions: 46-0002, 46-0075, 46-0180, 46-0194

Reasons: Secured Area

9 Bldgs.

Los Alamos National Lab

Los Alamos NM 87545

Landholding Agency: Energy

Property Number: 41201010002

Status: Unutilized

Directions: 57-0018, 57-0041, 57-0074, 57-0084, 57-0085, 57-0086, 57-0121, 57-0122, 57-0123

Reasons: Secured Area

13 Bldgs.

Los Alamos National Lab

Los Alamos NM 87545

Landholding Agency: Energy

Property Number: 41201010003

Status: Unutilized

Directions: 03-2237, 09-0273, 36-0082, 46-0165, 46-0179, 46-0185, 46-0231, 46-0232, 46-0234, 46-0254, 46-0314, 46-0546, 52-0043

Reasons: Extensive deterioration, Secured Area

11 Bldgs.

Los Alamos National Lab

Los Alamos NM 87545

Landholding Agency: Energy

Property Number: 41201010004

Status: Unutilized

Directions: 03-1516, 03-1533, 03-1559, 03-1566, 08-0020, 08-0032, 09-0051, 09-0214, 11-0024, 11-0036, 14-0006

Reasons: Secured Area, Extensive deterioration

28 Bldgs.

Los Alamos National Lab

Los Alamos NM 87545

Landholding Agency: Energy

Property Number: 41201020004

Status: Unutilized

Directions: 03-0406, 03-0480, 03-1524, 03-1525, 03-1526, 03-1530, 03-1540, 03-1541, 03-1736, 03-1737, 03-1738, 03-1903, 18-0184, 49-0135, 55-0043, 57-0115, 59-0029, 59-0030, 59-0031, 59-0032, 59-0033, 59-0034, 50-0035, 59-0036, 59-0037, 59-0118, 59-0119, 59-0123

Reasons: Secured Area

22 Bldgs.

Los Alamos National Lab

Los Alamos NM 87545

Landholding Agency: Energy

Property Number: 41201020005

Status: Unutilized

Directions: 16-0280, 16-0281, 16-0283, 16-0285, 16-0286, 16-0460, 16-0462, 16-0463, 16-1477, 16-1481, 16-1488, 18-0030, 18-0032, 18-0116, 18-0119, 18-0122, 18-0127, 18-0138, 18-0187, 18-0188, 18-0190, 18-0256

Reasons: Secured Area

4 Bldgs.

Los Alamos National Lab

Los Alamos NM 87545

Landholding Agency: Energy

Property Number: 41201020010

Status: Unutilized

Directions: 03-1525, 03-1540, 15-0027, 21-8002

Reasons: Secured Area, Within 2000 ft. of flammable or explosive material

9 Bldgs.

Los Alamos National Lab

Los Alamos NM 87545

Landholding Agency: Energy

Property Number: 41201020011

Status: Unutilized

Directions: 33-0129, 35-0250, 36-0005, 36-0006, 37-0006, 37-0008, 37-0009, 37-0019, 37-0020

Reasons: Secured Area, Within 2000 ft. of flammable or explosive material

12 Bldgs.

Los Alamos National Lab

Los Alamos NM 87545

Landholding Agency: Energy

Property Number: 41201020012

Status: Unutilized

Directions: 41-0004, 43-0020, 43-0037, 43-0045, 46-0001, 46-0036, 46-0075, 46-0119, 46-0178, 46-0201, 46-0342, 48-0203

Reasons: Within 2000 ft. of flammable or explosive material Secured Area

4 Bldgs.

Los Alamos National Lab

Los Alamos NM 87545

Landholding Agency: Energy

Property Number: 41201020013

Status: Unutilized

Directions: 55-0125, 57-0041, 57-0077, 57-0082

Reasons: Secured Area, Within 2000 ft. of flammable or explosive material

3 Bldgs.

Los Alamos National Lab

Los Alamos NM 87545

Landholding Agency: Energy

Property Number: 41201020014

Status: Unutilized

Directions: 63-0113, 63-0114, 64-0045

Reasons: Within 2000 ft. of flammable or explosive material Secured Area

10 Bldgs.

Los Alamos National Lab

Los Alamos NM 87545

Landholding Agency: Energy

Property Number: 41201020015

Status: Unutilized

Directions: 22-0007, 22-0009, 22-0010, 22-0011, 22-0012, 22-0014, 22-0015, 22-0016, 22-0017, 22-0019

Reasons: Secured Area

7 Bldgs.

Los Alamos National Lab

Los Alamos NM 87545

Landholding Agency: Energy

Property Number: 41201020016

Status: Unutilized

Directions: 22-0021, 22-0022, 22-0023, 22-0024, 22-0032, 22-0035, 22-0069

Reasons: Secured Area

New York

Warehouse

Whitney Lake Project

Whitney Point Co: Broome NY 13862-0706

Landholding Agency: COE

Property Number: 31199630007

Status: Unutilized

Reasons: Extensive deterioration

Bldg. 0096

Brookhaven National Lab

Upton NY 11973

Landholding Agency: Energy

Property Number: 41200730004

Status: Unutilized

Reasons: Extensive deterioration, Secured Area

Bldg. 913T

Brookhaven Natl Laboratory

Upton NY 11973

Landholding Agency: Energy

Property Number: 41200830001

Status: Unutilized

Reasons: Extensive deterioration, Secured Area, Within 2000 ft. of flammable or explosive material

Bldgs. 680B, 680C

Brookhaven Natl Lab

Upton NY 11973

Landholding Agency: Energy

Property Number: 41200920002

Status: Excess

Reasons: Secured Area, Within 2000 ft. of flammable or explosive material Extensive deterioration

Bldg. 0051

Brookhaven National Lab

Upton NY 11973

Landholding Agency: Energy

Property Number: 41201020006

Status: Excess

Reasons: Within 2000 ft. of flammable or explosive material Secured Area

Bldg. 480A

Brookland Nat'l Lab

Upton NY 11973

Landholding Agency: Energy

Property Number: 41201020009

Status: Excess

Reasons: Within 2000 ft. of flammable or explosive material Extensive deterioration

Bldg. 13

USCG Staten Island

Suffolk NY 10305

Landholding Agency: Coast Guard

Property Number: 88200910002

Status: Excess

Reasons: Extensive deterioration, Secured Area

Boat House

USCG Station Eaton's Neck

Northport NY 11768

Landholding Agency: Coast Guard

Property Number: 88200920005

Status: Unutilized

Reasons: Extensive deterioration, Secured Area

North Carolina

Preston Clark USARC

1301 N. Memorial Dr.

Greenville Co: Pitt NC 27834

Landholding Agency: COE

Property Number: 31200620032

Status: Unutilized

Reasons: Extensive deterioration

Bldg. MC-A01

Morehead City NC

Landholding Agency: COE

Property Number: 31200740014

Status: Excess

Reasons: Extensive deterioration

5 Bldgs.

Natural Park

Wilkesboro NC 28697

Landholding Agency: COE

Property Number: 31200930012

Status: Unutilized

Directions: WC-A01, WC-AC01, WC-AW01, WC-FR01, WC-FC01

Reasons: Extensive deterioration

3 Bldgs.

Natural Park

Wilkesboro NC 28697

Landholding Agency: COE

Property Number: 31200930013

Status: Unutilized

Directions: BM-W01, BR-R02, RM-M06

Reasons: Extensive deterioration

RPFN 0S1

Group Cape Hatteras

Buxton Co: Dare NC 27902

Landholding Agency: Coast Guard

Property Number: 88200540001

Status: Unutilized

Reasons: Secured Area, Extensive deterioration

RPFN 053

Sector N.C.

Atlantic Beach Co: Carteret NC 28512

Landholding Agency: Coast Guard

Property Number: 88200540002

Status: Unutilized

Reasons: Extensive deterioration, Secured Area

Equip. Bldg.

Coast Guard Station

11101 Station St.

Emerald Isle NC

Landholding Agency: Coast Guard

Property Number: 88200630001

Status: Unutilized

Reasons: Secured Area

Sewage Treatment Facility

USCG Cape Hatteras

Buxton NC 27902

Landholding Agency: Coast Guard

Property Number: 88200920006

Status: Unutilized

Reasons: Secured Area

Bldgs. GH1, FA1

U.S. Coast Guard Station

Hatteras NC 27943

Landholding Agency: Coast Guard

Property Number: 88200940003

Status: Unutilized

Reasons: Extensive deterioration

Bldgs. OK1, OK2

USCG Station

Hobucken NC 28537

Landholding Agency: Coast Guard

Property Number: 88201010001

Status: Excess

Reasons: Secured Area, Extensive deterioration

10 Bldgs.

U.S. Coast Guard

Cape Hatteras NC

Landholding Agency: Coast Guard

Property Number: 88201010002

Status: Excess

Directions: OB2, OB4, OD1, OD2, OE1, OG1, OI1, 001, 0S1, OU1

Reasons: Secured Area, Floodway

7 Bldgs.

U.S. Coast Guard

Cape Hatteras NC

Landholding Agency: Coast Guard

Property Number: 88201010003

Status: Excess

Directions: OR1, OR2, OR4, OR5, OR6, OR7, OR8

Reasons: Floodway, Secured Area

10 Bldgs.

U.S. Coast Guard

Cape Hatteras NC

Landholding Agency: Coast Guard

Property Number: 88201010004

Status: Excess

Directions: OV1, OV4, OV5, OV6, OV7, OV8, OV9, OV10, OV11, OV12

Reasons: Secured Area, Floodway

5 Bldgs.

U.S. Coast Guard

Cape Hatteras NC

Landholding Agency: Coast Guard

Property Number: 88201010005

Status: Excess

Directions: NB1, NR1, NR2, NS1, NS2

Reasons: Floodway, Secured Area

Bldg. 9

VA Medical Center

1100 Tunnel Road

Asheville Co: Buncombe NC 28805

Landholding Agency: VA

Property Number: 97199010008

Status: Unutilized

Reasons: Extensive deterioration

North Dakota

Bldg. ASH 10367

Baldhill Dam

Barnes ND

Landholding Agency: COE

Property Number: 31201020004

Status: Unutilized

Reasons: Extensive deterioration

Ohio

Installation 39875

Hayes Reserve Center

Fremont OH 43420

Landholding Agency: COE

Property Number: 31200740016

Status: Excess

Reasons: Extensive deterioration

Naval Reserve Center

Cleveland OH 44114

Landholding Agency: Coast Guard

Property Number: 88200740002

Status: Unutilized

Reasons: Within 2000 ft. of flammable or explosive material, Within airport runway clear zone, Secured Area

Bldg. 105

VA Medical Center

Dayton Co: Montgomery OH 45428

Landholding Agency: VA

Property Number: 97199920005

Status: Unutilized

Reasons: Extensive deterioration

Oklahoma

Comfort Station

LeFlore Landing PUA

Sallisaw Co: LeFlore OK 74955-9445

Landholding Agency: COE

Property Number: 31200240008

Status: Excess

Reasons: Extensive deterioration

Comfort Station

Braden Bend PUA

Sallisaw Co: LeFlore OK 74955-9445

Landholding Agency: COE

Property Number: 31200240009

Status: Excess

Reasons: Extensive deterioration

Water Treatment Plant

Salt Creek Cove

Sawyer Co: Choctaw OK 74756-0099

Landholding Agency: COE

Property Number: 31200240010

Status: Excess

Reasons: Extensive deterioration

Water Treatment Plant

Wilson Point

Sawyer Co: Choctaw OK 74756-0099

Landholding Agency: COE

Property Number: 31200240011

Status: Excess

Reasons: Extensive deterioration

2 Comfort Stations

Landing PUA/Juniper Point PUA

Stigler Co: McIntosh OK 74462-9440

Landholding Agency: COE

Property Number: 31200240012

Status: Excess

Reasons: Extensive deterioration

Filter Plant/Pumphouse

South PUA

Stigler Co: McIntosh OK 74462-9440

Landholding Agency: COE

Property Number: 31200240013

Status: Excess

Reasons: Extensive deterioration

Filter Plant/Pumphouse

North PUA

Stigler Co: McIntosh OK 74462-9440

Landholding Agency: COE

Property Number: 31200240014

Status: Excess

Reasons: Extensive deterioration

Filter Plant/Pumphouse

Juniper Point PUA

Stigler Co: McIntosh OK 74462-9440

Landholding Agency: COE

Property Number: 31200240015

Status: Excess

Reasons: Extensive deterioration

Comfort Station

Juniper Point PUA

Stigler Co: McIntosh OK 74462-9440

Landholding Agency: COE

Property Number: 31200240016

Status: Excess

Reasons: Extensive deterioration

Comfort Station

Brooken Cove PUA

Stigler Co: McIntosh OK 74462-9440

Landholding Agency: COE

Property Number: 31200240017

Status: Excess

Reasons: Extensive deterioration

2 Bldgs.

Outlet Channel/Walker Creek

Waurika OK 73573-0029

Landholding Agency: COE

Property Number: 31200340013

Status: Excess

Reasons: Extensive deterioration

2 Bldgs.

Damsite South

Stigler OK 74462-9440

Landholding Agency: COE

Property Number: 31200340014

Status: Excess

Reasons: Extensive deterioration

19 Bldgs.

Kaw Lake

Ponca City OK 74601-9962

Landholding Agency: COE

Property Number: 31200340015

Status: Excess

Reasons: Extensive deterioration

30 Bldgs.

Keystone Lake

Sand Springs OK 74063-9338

Landholding Agency: COE

Property Number: 31200340016

Status: Excess

Reasons: Extensive deterioration

13 Bldgs.

Oologah Lake

Oologah OK 74053-0700

Landholding Agency: COE

Property Number: 31200340017

Status: Excess

Reasons: Extensive deterioration

14 Bldgs.

Pine Creek Lake

Valliant OK 74764-9801

Landholding Agency: COE

Property Number: 31200340018

Status: Excess

Reasons: Extensive deterioration

6 Bldgs.

Sardis Lake

Clayton OK 74536-9729

Landholding Agency: COE

Property Number: 31200340019

Status: Excess

Reasons: Extensive deterioration

22 Bldgs.

Skiatook Lake

Skiatook OK 74070-9803

Landholding Agency: COE

Property Number: 31200340020

Status: Excess

Reasons: Extensive deterioration

40 Bldgs.

Eufaula Lake

Stigler OK 74462-5135

Landholding Agency: COE

Property Number: 31200340021

Status: Excess

Reasons: Extensive deterioration

2 Bldgs.

Holiday Cove

Stigler OK 74462-5135

Landholding Agency: COE

Property Number: 31200340022

Status: Excess

Reasons: Extensive deterioration

18 Bldgs.

Fort Gibson

Ft. Gibson Co: Wagoner OK 74434-0370

Landholding Agency: COE

Property Number: 31200340023

Status: Excess

Reasons: Extensive deterioration

2 Bldgs.

Fort Supply

Ft. Supply Co: Woodward OK 73841-0248

Landholding Agency: COE

Property Number: 31200340024

Status: Excess

Reasons: Extensive deterioration

Game Bird House

Fort Supply Lake

Ft. Supply Co: Woodward OK 73841-0248

Landholding Agency: COE

Property Number: 31200340025

Status: Excess

Reasons: Extensive deterioration

11 Bldgs.

Hugo Lake

Sawyer OK 74756-0099

Landholding Agency: COE

Property Number: 31200340026

Status: Excess

Reasons: Extensive deterioration

5 Bldgs.

Birch Cove/Twin Cove

Skiatook OK 74070-9803

Landholding Agency: COE

Property Number: 31200340027

Status: Excess

Reasons: Extensive deterioration

2 Bldgs.

Fairview Group Camp

Canton OK 73724-0069

Landholding Agency: COE

Property Number: 31200340028

Status: Excess

Reasons: Extensive deterioration

2 Bldgs.

Chouteau Bluff

Gore Co: Wagoner OK 74935-9404

Landholding Agency: COE

Property Number: 31200340029

Status: Excess

Reasons: Extensive deterioration

2 Bldgs.

Newt Graham L

Gore OK 74935-9404

Landholding Agency: COE

Property Number: 31200340030

Status: Excess

Reasons: Extensive deterioration

2 Bldgs.

Damsite/Fisherman's Landing

Sallisaw OK 74955-9445

Landholding Agency: COE

Property Number: 31200340031

Status: Excess

Reasons: Extensive deterioration

10 Bldgs.

Webbers Falls Lake

Gore OK 74435-5541

Landholding Agency: COE

Property Number: 31200340032

Status: Excess

Reasons: Extensive deterioration

Bldg.

Lower Storage Yard

Skiatook Co: Osage OK 74070

Landholding Agency: COE

Property Number: 31200530007

Status: Excess

Reasons: Extensive deterioration

3 Bldgs.

Birch Cove PUA

Skiatook Co: Osage OK 74070

Landholding Agency: COE

Property Number: 31200530008

Status: Excess

Reasons: Extensive deterioration

Bldg.

Canadian Public Use Area

Canton Co: Blaine OK 73724

Landholding Agency: COE

Property Number: 31200530009

Status: Excess

Reasons: Extensive deterioration

3 Bldgs.

Porum Landing PUA

Stigler Co: McIntosh OK 74462

Landholding Agency: COE

Property Number: 31200530010

Status: Excess

Reasons: Extensive deterioration

2 Bldgs.

Bluff/Afton Landing

Ft. Gibson Co: Wagoner OK 74434

Landholding Agency: COE

Property Number: 31200530012

Status: Excess

Reasons: Extensive deterioration

Bldg.

Lake Office

Ft. Supply Co: Woodward OK 73841

Landholding Agency: COE

Property Number: 31200530013

Status: Excess

Reasons: Extensive deterioration

4 Bldgs.

Overlook PUA

Ft. Supply Co: Texas OK 73841

Landholding Agency: COE

Property Number: 31200530014

Status: Excess

Reasons: Extensive deterioration

Bldg.

Hugo Lake

Sawyer Co: Chocktaw OK 74756

Landholding Agency: COE

Property Number: 31200530015

Status: Excess

Reasons: Extensive deterioration

2 Bldgs.

Sarge Creek PUA

Ponca City Co: Kay OK 74601

Landholding Agency: COE

Property Number: 31200530016

Status: Excess

Reasons: Extensive deterioration

5 Bldgs.

Hawthorne Bluff

Oologah Co: Rogers OK 74053

Landholding Agency: COE

Property Number: 31200530017

Status: Excess

Reasons: Extensive deterioration

12 Bldgs.

Trout Stream PUAs

Gore Co: Sequoyah OK 74435

Landholding Agency: COE

Property Number: 31200530018

Status: Excess

Reasons: Extensive deterioration

14 Bldgs.

Chicken Creek PUAs

Gore Co: Cherokee OK 74435

Landholding Agency: COE

Property Number: 31200530019

Status: Excess

Reasons: Extensive deterioration

4 Bldgs.

Snake Creek Area

Gore Co: Sequoyah OK 74435

Landholding Agency: COE

Property Number: 31200530020

Status: Excess

Reasons: Extensive deterioration

3 Bldgs.

Brewer's Bend

Gore Co: Muskogee OK 74435

Landholding Agency: COE

Property Number: 31200530021

Status: Excess

Reasons: Extensive deterioration

Facility

Hulah Lake

Copan Co: Osage OK 74022

Landholding Agency: COE

Property Number: 31200620025

Status: Excess

Reasons: Extensive deterioration

Bldg.

Webbers Falls

Muskogee OK 74435

Landholding Agency: COE

Property Number: 31200620026

Status: Excess

Reasons: Extensive deterioration

24 Bldgs.

Hulah Lake

Copan OK

Landholding Agency: COE

Property Number: 31200630011

Status: Unutilized

Reasons: Extensive deterioration

Bldgs. 44760, 44707

Canton Lake

Canton OK 73724

Landholding Agency: COE

Property Number: 31200630012

Status: Unutilized

Reasons: Extensive deterioration

Bldg.

Skiatook Lake

Skiatook OK 74070

Landholding Agency: COE

Property Number: 31200630013

Status: Unutilized

Reasons: Extensive deterioration

Bldgs. 43263, 42364

Oologah Lake

Oologah OK 74053

Landholding Agency: COE

Property Number: 31200630015

Status: Unutilized

Reasons: Extensive deterioration

Bldg.

Webbers Falls Lake

Webbers Falls OK

Landholding Agency: COE

Property Number: 31200630016

Status: Unutilized

Reasons: Extensive deterioration

Bldgs. 43523, 43820

Hugo Lake

Sawyer OK 74756

Landholding Agency: COE

Property Number: 31200630017

Status: Unutilized

Reasons: Extensive deterioration

Bldg.

Newt Graham Lock 18

Inola OK

Landholding Agency: COE

Property Number: 31200640014

Status: Unutilized

Reasons: Extensive deterioration

4 Bldgs.

Gore OK 74435

Landholding Agency: COE

Property Number: 31200640016

Status: Unutilized

Directions: Afton Landing or Bluff Landing

Reasons: Extensive deterioration

Pinecr-58321

Pine Creek Lake

Valiant OK

Landholding Agency: COE

Property Number: 31200710015

Status: Unutilized

Reasons: Extensive deterioration

KAW—58649

Garrett's Landing

Kaw City OK

Landholding Agency: COE

Property Number: 31200710016

Status: Unutilized

Reasons: Extensive deterioration

Bldg.

Sizemore Landing

Gore OK 74435

Landholding Agency: COE

Property Number: 31200720007

Status: Unutilized

Reasons: Extensive deterioration

Bldg.

Taylor Ferry

Fort Gibson OK 74434

Landholding Agency: COE

Property Number: 31200720008

Status: Unutilized

Reasons: Extensive deterioration

Bldgs. 42670, 42634

Tenkiller Lake

Gore OK 74435

Landholding Agency: COE

Property Number: 31200730014

Status: Unutilized

Reasons: Extensive deterioration

Bldg. 41946

Webbers Falls Lake

Webbers Lake OK

Landholding Agency: COE

Property Number: 31200730015

Status: Unutilized

Reasons: Extensive deterioration

Bldgs. 44760, 44707

Canton Lake

Canton OK

Landholding Agency: COE

Property Number: 31200730016

Status: Unutilized

Reasons: Extensive deterioration

6 Bldgs.

Hugo Lake

Sawyer OK

Landholding Agency: COE

Property Number: 31200730017

Status: Unutilized

Directions: 43803, 43802, 43827, 43760, 43764, 43763

Reasons: Extensive deterioration

Gatehouse

Porum Landing

Stigler OK 75562

Landholding Agency: COE

Property Number: 31200740017

Status: Unutilized

Reasons: Extensive deterioration

Bldgs. 42008, 55088

Webbers Falls Lake

Webbers Falls OK

Landholding Agency: COE

Property Number: 31200740019

Status: Unutilized

Reasons: Extensive deterioration

4 Bldgs.

Optima Lake

Texas OK

Landholding Agency: COE

Property Number: 31200820010

Status: Unutilized

Directions: 43119, 43192, 43193, 43262

Reasons: Extensive deterioration

Bldg. FTGIBS-57431

Fort Gibson

Fort Gibson OK

Landholding Agency: COE

Property Number: 31200840011

Status: Unutilized

Reasons: Extensive deterioration

Bldg. 43446, Keystone

Washington Irving Rec Area

Sand Springs OK 74063

Landholding Agency: COE

Property Number: 31200920010

Status: Unutilized

Reasons: Extensive deterioration

Bldgs. 43611, 43612, 43545

Kaw Lake

Coon Creek

Ponca City OK 74604

Landholding Agency: COE

Property Number: 31200920011

Status: Unutilized

Reasons: Extensive deterioration

9 Bldgs.

Eufaula Lake

Stigler OK 74462

Landholding Agency: COE

Property Number: 31200920012

Status: Unutilized

Reasons: Extensive deterioration

Bldg. 44065

Fort Gibson

Taylor Ferry South

Ft. Gibson OK 74434

Landholding Agency: COE

Property Number: 31200920013

Status: Unutilized

Reasons: Extensive deterioration

10 Bldgs.

Flat Rock Creek

Fort Gibson OK 74434

Landholding Agency: COE

Property Number: 31200920014

Status: Unutilized

Reasons: Extensive deterioration

Bldg. 44763

Canton Lake

Canton OK 73724

Landholding Agency: COE

Property Number: 31200920015

Status: Unutilized

Reasons: Extensive deterioration

Bldgs. 43302, 43303

Newt Graham Lock & Dam

Inola OK 74036

Landholding Agency: COE

Property Number: 31200920016

Status: Unutilized

Reasons: Extensive deterioration

5 Bldgs.

Eufaula Lake

Stigler OK 74462

Landholding Agency: COE

Property Number: 31200920050

Status: Unutilized

Directions: EUFUAL-44237, 44147, 56608, 56609, 56570

Reasons: Extensive deterioration

61 Structures

Newt Graham Lock & Dam

Inola OK 74036

Landholding Agency: COE

Property Number: 31200920051

Status: Unutilized

Reasons: Extensive deterioration

19 Structures

Tenkiller Lake

Webber Falls

Gore OK 74435

Landholding Agency: COE

Property Number: 31200920052

Status: Unutilized

Reasons: Extensive deterioration

40 Structures

Tenkiller Lake

Gore OK 74435

Landholding Agency: COE

Property Number: 31200920053

Status: Unutilized

Reasons: Extensive deterioration

Bldg. RSKERR-42811

Kerr Lock & Dam

Sallisaw OK 74955

Landholding Agency: COE

Property Number: 31200930009

Status: Unutilized

Reasons: Extensive deterioration

Bldg. 43992

Fort Gibson Lake

Fort Gibson OK 74434

Landholding Agency: COE

Property Number: 31200940010

Status: Unutilized

Reasons: Extensive deterioration

Bldgs. 43847, 43783

Hugo Lake

Sawyer OK 74756

Landholding Agency: COE

Property Number: 31200940011

Status: Unutilized

Reasons: Extensive deterioration

32 Bldgs.

Optima Lake

Texas OK

Landholding Agency: COE

Property Number: 31200940012

Status: Unutilized

Reasons: Extensive deterioration

CANTON 44700, 44701, 44762

Big Bend Park

Canton OK 73724

Landholding Agency: COE

Property Number: 31201010005

Status: Unutilized

Reasons: Extensive deterioration

Compound

Canton Lake

Canton OK

Landholding Agency: COE

Property Number: 31201020005

Status: Unutilized

Reasons: Extensive deterioration

31 Bldgs.

Eufaula Lake

Stigler OK 74462

Landholding Agency: COE

Property Number: 31201020012

Status: Unutilized

Reasons: Extensive deterioration

Flat Rock Creek Public

Use Area

Fort Gibson OK 74434

Landholding Agency: COE

Property Number: 31201030004

Status: Unutilized

Reasons: Extensive deterioration

Oregon

2 Floating Docks

Rogue River

Gold Beach Co: Curry OR 97444

Landholding Agency: COE

Property Number: 31200430015

Status: Excess

Reasons: Floodway

2 Trailers

John Day Project

#1 West Marine Drive

Boardman Co: Morrow OR 97818

Landholding Agency: COE

Property Number: 31200510012

Status: Unutilized

Reasons: Extensive deterioration

Restroom—V0035

McNary Lock & Dam

Umatilla OR

Landholding Agency: COE

Property Number: 31200940013

Status: Unutilized

Reasons: Extensive deterioration

Lowell Admin. Compound

60 South Pioneer St.

Lowell OR 97452

Landholding Agency: GSA

Property Number: 54201020011

Status: Excess

GSA Number: 9-D-OR-077

Reasons: Floodway

Pennsylvania

Bldgs. TIO 12328, 12333

Tionesta PA 16353

Landholding Agency: COE

Property Number: 31200820011

Status: Unutilized

Reasons: Extensive deterioration

Z-Bldg.

Bettis Atomic Power Lab

West Mifflin Co: Allegheny PA 15122-0109

Landholding Agency: Energy

Property Number: 41199720002

Status: Excess

Reasons: Extensive deterioration

South Carolina

36 Bldgs.

J. Strom Thurmond Lake

Clarks Hill SC 29821

Landholding Agency: COE

Property Number: 31200920017

Status: Unutilized

Reasons: Extensive deterioration

Bldg. JST 17244

J. Strom Thurmond Lake

Clarks Hill SC 29821

Landholding Agency: COE

Property Number: 31200920018

Status: Unutilized

Reasons: Extensive deterioration

Bldg. 701-6G

Jackson Barricade

Jackson SC

Landholding Agency: Energy

Property Number: 41200420010

Status: Unutilized

Reasons: Secured Area

Bldg. 211-000F

Nuclear Materials Processing Facility

Aiken SC 29802

Landholding Agency: Energy

Property Number: 41200420011

Status: Excess

Reasons: Secured Area

Bldg. 221-001F

Nuclear Materials Processing Facility

Aiken SC 29802

Landholding Agency: Energy

Property Number: 41200420015

Status: Excess

Reasons: Secured Area

Bldg. 190-K

Savannah River Operations

Aiken SC 29802

Landholding Agency: Energy

Property Number: 41200420030

Status: Unutilized

Reasons: Secured Area

Bldg. 710-015N

Savannah River Operations

Aiken SC 29802

Landholding Agency: Energy

Property Number: 41200430002

Status: Excess

Reasons: Secured Area

Bldg. 713-000N

Savannah River Operations

Aiken SC 29802

Landholding Agency: Energy

Property Number: 41200430003

Status: Excess

Reasons: Secured Area

Bldgs. 80-9G, 10G

Savannah River Operations

Aiken SC 29802

Landholding Agency: Energy

Property Number: 41200430006

Status: Excess

Reasons: Secured Area

Bldgs. 105-P, 105-R

Savannah River Operations

Aiken SC 29802

Landholding Agency: Energy

Property Number: 41200430007

Status: Excess

Reasons: Secured Area

Bldg. 183-003L

Savannah River Operations

Aiken SC 29802

Landholding Agency: Energy

Property Number: 41200430009

Status: Excess

Reasons: Secured Area

Bldg. 221-016F

Savannah River Operations

Aiken SC 29802

Landholding Agency: Energy

Property Number: 41200430014

Status: Excess

Reasons: Secured Area

Bldgs. 221-053F, 054F

Savannah River Operations

Aiken SC 29802

Landholding Agency: Energy

Property Number: 41200430016

Status: Excess

Reasons: Secured Area

Bldgs. 252-003F, 005F

Savannah River Operations

Aiken SC 29802

Landholding Agency: Energy

Property Number: 41200430017

Status: Excess

Reasons: Secured Area

Bldg. 315-M

Savannah River Operations

Aiken SC 29802

Landholding Agency: Energy

Property Number: 41200430030

Status: Excess

Reasons: Secured Area

Bldg. 716-002A

Savannah River Operations

Aiken SC 29802

Landholding Agency: Energy

Property Number: 41200430040

Status: Excess

Reasons: Secured Area

Bldgs. 221-21F, 22F

Savannah River Operations

Aiken SC 29802

Landholding Agency: Energy

Property Number: 41200430042

Status: Excess

Reasons: Secured Area

Bldg. 221-033F

Savannah River Operations

Aiken SC 29802

Landholding Agency: Energy

Property Number: 41200430043

Status: Excess

Reasons: Secured Area

Bldg. 254-007F

Savannah River Operations

Aiken SC 29802

Landholding Agency: Energy

Property Number: 41200430044

Status: Excess

Reasons: Secured Area

Bldg. 281-001F

Savannah River Operations

Aiken SC 29802

Landholding Agency: Energy

Property Number: 41200430045

Status: Excess

Reasons: Secured Area

Bldg. 281-004F

Savannah River Operations

Aiken SC 29802

Landholding Agency: Energy

Property Number: 41200430046

Status: Excess

Reasons: Secured Area

Bldg. 281-006F

Savannah River Operations

Aiken SC 29802

Landholding Agency: Energy

Property Number: 41200430047

Status: Excess

Reasons: Secured Area

Bldg. 703-045A

Savannah River Operations

Aiken SC 29802

Landholding Agency: Energy

Property Number: 41200430050

Status: Excess

Reasons: Secured Area

Bldg. 703-071A

Savannah River Operations

Aiken SC 29802

Landholding Agency: Energy

Property Number: 41200430051

Status: Excess

Reasons: Secured Area

Bldg. 754-008A

Savannah River Operations

Aiken SC 29802

Landholding Agency: Energy

Property Number: 41200430058

Status: Excess

Reasons: Secured Area

Bldg. 186-R

Savannah River Site

Aiken SC

Landholding Agency: Energy

Property Number: 41200430063

Status: Unutilized

Reasons: Secured Area

4 Bldgs.

Savannah River Site

#281-2F, 281-5F, 285-F, 285-5F

Aiken SC

Landholding Agency: Energy

Property Number: 41200430066

Status: Unutilized

Reasons: Secured Area

Bldg. 701-000M

Savannah River Site

Aiken SC 29802

Landholding Agency: Energy

Property Number: 41200430084

Status: Unutilized

Reasons: Secured Area

Bldg. 690-000N

Savannah River Site

Aiken SC 29802

Landholding Agency: Energy

Property Number: 41200440032

Status: Underutilized

Reasons: Secured Area

Facility 701-5G

Savannah River Site

New Ellenton SC

Landholding Agency: Energy

Property Number: 41200530003

Status: Unutilized

Reasons: Extensive deterioration

Bldg. 714-000A

Savannah River Site

Aiken SC

Landholding Agency: Energy

Property Number: 41200620014

Status: Underutilized

Reasons: Secured Area

Bldg. 777-018A

Savannah River Site

Aiken SC 29802

Landholding Agency: Energy

Property Number: 41200620022

Status: Excess

Reasons: Secured Area

Bldgs. 108-1P, 108-2P

Savannah River Site

Aiken SC 29802

Landholding Agency: Energy

Property Number: 41200630007

Status: Unutilized

Reasons: Secured Area

Bldg. 701-001P

Savannah River Site

Aiken SC 29802

Landholding Agency: Energy

Property Number: 41200640002

Status: Unutilized

Reasons: Secured Area

Bldgs. 151-1P, 151-2P

Savannah River Site

Aiken SC 29802

Landholding Agency: Energy

Property Number: 41200640004

Status: Unutilized

Reasons: Secured Area

Bldg. 191-P

Savannah River Site

Aiken SC 29802

Landholding Agency: Energy

Property Number: 41200640005

Status: Unutilized

Reasons: Secured Area

Bldg. 710-P

Savannah River Site

Aiken SC 29802

Landholding Agency: Energy

Property Number: 41200640006

Status: Unutilized

Reasons: Secured Area

Bldg. 614-63G

Savannah River Site

Aiken SC 29802

Landholding Agency: Energy

Property Number: 41200710006

Status: Unutilized

Reasons: Secured Area

Bldgs. 701-2G, -905-117G

Savannah River Site

Aiken SC 29802

Landholding Agency: Energy

Property Number: 41200710007

Status: Unutilized

Reasons: Secured Area

Bldgs. 108-1R, 108-2R

Savannah River Site

Aiken SC 29802

Landholding Agency: Energy

Property Number: 41200710010

Status: Unutilized

Reasons: Secured Area

Bldgs. 717-003S, 717-010S

Savannah River Site

Aiken SC 29802

Landholding Agency: Energy

Property Number: 41200710011

Status: Unutilized

Reasons: Secured Area

Facility 151-1R

Savannah River Site

Aiken SC 29802

Landholding Agency: Energy

Property Number: 41200810001

Status: Underutilized

Reasons: Secured Area

South Dakota

Mobile Home

Tract L-1295

Oahe Dam

Potter SD 00000

Landholding Agency: COE

Property Number: 31200030001

Status: Excess

Reasons: Extensive deterioration

Tennessee

Bldg. 204

Cordell Hull Lake and Dam Project.

Defeated Creek Recreation Area

Carthage Co: Smith TN 37030

Landholding Agency: COE

Property Number: 31199011499

Status: Unutilized

Directions: U.S. Highway 85

Reasons: Floodway

Tract 2618 (Portion)

Cordell Hull Lake and Dam Project

Roaring River Recreation Area

Gainesboro Co: Jackson TN 38562

Landholding Agency: COE

Property Number: 31199011503

Status: Underutilized

Directions: TN Highway 135

Reasons: Floodway

Water Treatment Plant

Dale Hollow Lake Project

Obey River Park, State Hwy 42

Livingston Co: Clay TN 38351

Landholding Agency: COE

Property Number: 31199140011

Status: Excess

Reasons: Other—water treatment plant

Water Treatment Plant

Dale Hollow Lake Project

Lillydale Recreation Area, State Hwy 53

Livingston Co: Clay TN 38351

Landholding Agency: COE

Property Number: 31199140012

Status: Excess

Reasons: Other—water treatment plant

Water Treatment Plant

Dale Hollow Lake Project

Willow Grove Recreational Area, Hwy No. 53

Livingston Co: Clay TN 38351

Landholding Agency: COE

Property Number: 31199140013

Status: Excess

Reasons: Other—water treatment plant

Comfort Station/Land

Cook Campground

Nashville Co: Davidson TN 37214

Landholding Agency: COE

Property Number: 31200420024

Status: Unutilized

Reasons: Floodway

Tracts 915, 920, 931C-1

Cordell Hull Dam/Reservoir

Cathage Co: Smith TN 37030

Landholding Agency: COE

Property Number: 31200430016

Status: Unutilized

Reasons: Other—landlocked, Floodway

Residence #5

5050 Dale Hollow Dam Rd.

Celina Co: Clay TN 38551

Landholding Agency: COE

Property Number: 31200540010

Status: Unutilized

Reasons: Other—landlocked

Bldg.

Dale Hollow Lake Dam

Celina Co: Clay TN 38551

Landholding Agency: COE

Property Number: 31200610013

Status: Unutilized

Reasons: Extensive deterioration

Bldg. 9418-1

Y-12 Plant

Oak Ridge Co: Anderson TN 37831

Landholding Agency: Energy

Property Number: 41199810026

Status: Unutilized

Reasons: Secured Area, Extensive deterioration

Bldg. 2010

Oak Ridge Natl Laboratory

Oak Ridge TN 37831

Landholding Agency: Energy

Property Number: 41200710009

Status: Excess

Reasons: Extensive deterioration, Secured Area

3 Bldgs.

Y-12 Natl Nuclear Security Complex

Oak Ridge TN 37831

Landholding Agency: Energy

Property Number: 41200720001

Status: Unutilized

Directions: 9104-01, 9104-02, 9104-03

Reasons: Secured Area

Bldgs. 1035, 1058, 1061

E. Tennessee Technology Park

Oak Ridge TN

Landholding Agency: Energy

Property Number: 41200730002

Status: Unutilized

Reasons: Extensive deterioration, Secured Area, Contamination

Bldgs. 1231, 1416

E. Tennessee Technology Park

Oak Ridge TN 37831

Landholding Agency: Energy

Property Number: 41200730003

Status: Unutilized

Reasons: Extensive deterioration, Contamination, Secured Area

Bldgs. 413, 1059

E. TN Tech Park

Oak Ridge TN 37831

Landholding Agency: Energy

Property Number: 41200730006

Status: Excess

Reasons: Contamination, Secured Area

Bldgs. 1000, 1008F, 1028

E. TN Technology Park

Oak Ridge TN 37831

Landholding Agency: Energy

Property Number: 41200810005

Status: Excess

Reasons: Secured Area

Bldgs. 1101, 1201, 1501

E. TN Technology Park

Oak Ridge TN 37831

Landholding Agency: Energy

Property Number: 41200810006

Status: Excess

Reasons: Within airport runway clear zone, Secured Area

4 Bldgs.

East TN Technology Park

Oak Ridge TN 37831

Landholding Agency: Energy

Property Number: 41200810007

Status: Excess

Directions: 1513, 1515, 1515E, 1515H

Reasons: Secured Area

3 Bldgs.

Y-12 National Security Complex

9706-01, 9706-01A, 9711-05

Oak Ridge TN 37831

Landholding Agency: Energy

Property Number: 41200810008

Status: Unutilized

Reasons: Secured Area

3 Bldgs.

Y-12 National Security Complex

9733-01, 9733-02, 9733-03

Oak Ridge TN 37831

Landholding Agency: Energy

Property Number: 41200810009

Status: Unutilized

Reasons: Secured Area

Bldgs. 9734, 9739

Y-12 National Security Complex

Oak Ridge TN 37831

Landholding Agency: Energy

Property Number: 41200810010

Status: Unutilized

Reasons: Secured Area

4 Bldgs.

Y-12 Natl Security Complex

Oak Ridge TN 37831

Landholding Agency: Energy

Property Number: 41200910001

Status: Unutilized

Directions: 9201-05, 9622, 9769, 9983-HP

Reasons: Secured Area

13 Bldgs.

Y-12 Natl Security Complex

Oak Ridge TN 37831

Landholding Agency: Energy

Property Number: 41200920003

Status: Unutilized

Directions: 9404-02, 9404-04, 9409-04, 9409-30, 9416-18, 9416-21, 9709, 9709-19, 9720-19A, 9720-19B, 9724-01, 9766, 9983-FE

Reasons: Secured Area

Texas

Comfort Station

Overlook PUA

Powderly Co: Lamar TX 75473-9801

Landholding Agency: COE

Property Number: 31200240018

Status: Excess

Reasons: Extensive deterioration

148 Bldgs.

Texoma Lake

Denison TX

Landholding Agency: COE

Property Number: 31200740018

Status: Unutilized

Reasons: Extensive deterioration

18 Bldgs.

Texoma Lake

Denison TX

Landholding Agency: COE

Property Number: 31200820012

Status: Unutilized

Reasons: Extensive deterioration

Bldg.

Stilling Basin

Pat Mayes Lake

Powderly TX 75473

Landholding Agency: COE

Property Number: 31200820013

Status: Unutilized

Reasons: Extensive deterioration

4 Bldgs. Burns Run Area

Texoma Lake

57667, 42562, 42486, 42568

Denison TX

Landholding Agency: COE

Property Number: 31200840012

Status: Unutilized

Reasons: Extensive deterioration

Bldgs. 42466, 42508

Johnson Creek/Caney Creek

Denison TX

Landholding Agency: COE

Property Number: 31200920019

Status: Unutilized

Reasons: Extensive deterioration

4 Bldgs.

Lake Texoma

42558, 42473, 42543, 42496

Denison TX

Landholding Agency: COE

Property Number: 31200920020

Status: Unutilized

Reasons: Extensive deterioration

Bldg. 42479

Texoma Lake

Denison TX

Landholding Agency: COE

Property Number: 31200930010

Status: Unutilized

Reasons: Extensive deterioration

Boat Dock

Pat Mayse Lake

Powderly TX 75473

Landholding Agency: COE

Property Number: 31200940014

Status: Unutilized

Reasons: Extensive deterioration

Old USMC Training Center

Fort Point

Galveston TX 77550

Landholding Agency: COE

Property Number: 31200940015

Status: Unutilized

Reasons: Extensive deterioration

5 Bldgs.

Pat Mayse Lake

Powderly TX 75473

Landholding Agency: COE

Property Number: 31201010006

Status: Unutilized

Directions: 43018, 43017, 43010, 43011, 43012

Reasons: Extensive deterioration

Zone 12, Bldg. 12-20

Pantex Plant

Amarillo Co: Carson TX 79120

Landholding Agency: Energy

Property Number: 41200220053

Status: Unutilized

Reasons: Secured Area, Within 2000 ft. of flammable or explosive material

Bldgs. 12-017E, 12-019E

Pantex Plant

Amarillo Co: Carson TX 79120

Landholding Agency: Energy

Property Number: 41200320010

Status: Unutilized

Reasons: Within 2000 ft. of flammable or explosive material, Secured Area

4 Bldgs.

NNSA Pantex Plant

Amarillo Co: Carson TX 79120

Landholding Agency: Energy

Property Number: 41200540002

Status: Unutilized

Directions: 12-009, 12-009A, 12-R-009A, 12-R-009B

Reasons: Secured Area, Within 2000 ft. of flammable or explosive material

Bldg. 12-011A

NNSA Pantex Plant

Amarillo Co: Carson TX 79120

Landholding Agency: Energy

Property Number: 41200540003

Status: Unutilized

Reasons: Within 2000 ft. of flammable or explosive material, Secured Area

Bldg. 12-097

NNSA Pantex Plant

Amarillo Co: Carson TX 79120

Landholding Agency: Energy

Property Number: 41200540004

Status: Unutilized

Reasons: Secured Area, Within 2000 ft. of flammable or explosive material

Bldgs. 11-54, 11-54A

Zone 11

Plantex Plant

Amarillo Co: Carson TX 79120

Landholding Agency: Energy

Property Number: 41200630008

Status: Unutilized

Reasons: Within 2000 ft. of flammable or explosive material, Secured Area

Bldg. 12-002B

Zone 12

Pantex Plant

Amarillo Co: Carson TX 79120

Landholding Agency: Energy

Property Number: 41200630009

Status: Unutilized

Reasons: Within 2000 ft. of flammable or explosive material, Secured Area

4 Bldgs.

12-003, 12-R-003, 12-003L

Zone 12, Pantex Plant

Amarillo Co: Carson TX 79120

Landholding Agency: Energy

Property Number: 41200630010

Status: Unutilized

Reasons: Within 2000 ft. of flammable or explosive material, Secured Area

Bldg. 12-014

Zone 12

Pantex Plant

Amarillo Co: Carson TX 79120

Landholding Agency: Energy

Property Number: 41200630011

Status: Unutilized

Reasons: Within 2000 ft. of flammable or explosive material, Secured Area

Bldg. 12-24E

Zone 12

Pantex Plant

Amarillo Co: Carson TX 79120

Landholding Agency: Energy

Property Number: 41200630012

Status: Unutilized

Reasons: Secured Area, Within 2000 ft. of flammable or explosive material

Bldg. 11-029, Zone 11

Pantex Plant

Amarillo Co: Carson TX 79120

Landholding Agency: Energy

Property Number: 41200640007

Status: Unutilized

Reasons: Secured Area, Within 2000 ft. of flammable or explosive material

Bldgs. 11-010, T09-031

Pantex Plant

Amarillo TX 79120

Landholding Agency: Energy

Property Number: 41200810011

Status: Unutilized

Reasons: Within 2000 ft. of flammable or explosive material, Secured Area

Bldgs. 4-24, 4-27, 4-29

Pantex Plant

Amarillo TX 79120

Landholding Agency: Energy

Property Number: 41200830003

Status: Unutilized

Reasons: Secured Area, Within 2000 ft. of flammable or explosive material

Bldg. 11-027

Pantex Plant

Amarillo TX 79120

Landholding Agency: Energy

Property Number: 41200830004

Status: Unutilized

Reasons: Within 2000 ft. of flammable or explosive material, Secured Area

3 Bldgs.

Pantex Plant

12-0245, 12-041SS, 12-075A

Amarillo TX 79120

Landholding Agency: Energy

Property Number: 41200830005

Status: Unutilized

Reasons: Within 2000 ft. of flammable or explosive material, Secured Area

Bldgs. 04-024, 04-027, 04-029

Pantex Plant

Amarillo TX

Landholding Agency: Energy

Property Number: 41200840003

Status: Unutilized

Reasons: Within 2000 ft. of flammable or explosive material, Secured Area

Bldgs. 09-013, 09-125

Pantex Plant

Amarillo TX

Landholding Agency: Energy

Property Number: 41200840004

Status: Unutilized

Reasons: Secured Area, Within 2000 ft. of flammable or explosive material

5 Bldgs.

Pantex Plant

Amarillo TX

Landholding Agency: Energy

Property Number: 41200840005

Status: Unutilized

Directions: 09-095, 09-126, 09-132, 09-132A, 09-134

Reasons: Within 2000 ft. of flammable or explosive material, Secured Area

Bldg. 11-027

Pantex Plant

Amarillo TX

Landholding Agency: Energy

Property Number: 41200840006

Status: Unutilized

Reasons: Within 2000 ft. of flammable or explosive material, Secured Area

4 Bldgs.

Pantex Plant

Amarillo TX

Landholding Agency: Energy

Property Number: 41200840007

Status: Unutilized

Directions: 12-R-009B,12-0245, 12-041SS, 12-075A

Reasons: Within 2000 ft. of flammable or explosive material, Secured Area

6 Bldgs.

Pantex Plant

Amarillo TX 79121

Landholding Agency: Energy

Property Number: 41200920004

Status: Unutilized

Directions: 09-056, 11-R-016, 11-030, 12-023, 12-045, 12-047, 12-005G3

Reasons: Within 2000 ft. of flammable or explosive material, Secured Area

Bldg. 09-145

Pantex Plant

Amarillo TX 79120

Landholding Agency: Energy

Property Number: 41200940006

Status: Unutilized

Reasons: Secured Area, Extensive deterioration, Within 2000 ft. of flammable or explosive material

Wallisville Road Property

Houston TX 77029

Landholding Agency: GSA

Property Number: 54201020006

Status: Surplus

GSA Number: 7-G-TX-1107

Reasons: Within 2000 ft. of flammable or explosive material

Virginia

Bldgs. JHK-17433, JHK-17446

John H. Kerr Project

Boydton VA

Landholding Agency: COE

Property Number: 31200740020

Status: Unutilized

Reasons: Extensive deterioration

Bldg. JHK-16754

Henderson Point

Mecklenburg VA 23917

Landholding Agency: COE

Property Number: 31200840013

Status: Unutilized

Reasons: Extensive deterioration

4 Bldgs.

Philpott Lake

16232, 16233, 16234, 16235

Bassett VA 24055

Landholding Agency: COE

Property Number: 31200920021

Status: Unutilized

Reasons: Extensive deterioration

6 Bldgs.

John H. Kerr Lake & Dam

Mecklenburg VA 23917

Landholding Agency: COE

Property Number: 31200920022

Status: Unutilized

Directions: ID# JHK 15776, 16754, 16810, 17051, 17845, 18244

Reasons: Extensive deterioration

3 Comfort Stations

John H. Kerr Lake & Dam

Mecklenburg VA 23917

Landholding Agency: COE

Property Number: 31200920054

Status: Unutilized

Directions: JHK-17450, 17451, 17457

Reasons: Extensive deterioration

5 Bldgs.

John H. Kerr Lake & Dam

Mecklenburg VA 23917

Landholding Agency: COE

Property Number: 31200930014

Status: Unutilized

Directions: JHK-15782, 17134, 17453, 17456, 18017

Reasons: Extensive deterioration

Bldgs. 22624, 41438, 41439

John Flannagan Dam

Haysi VA 24256

Landholding Agency: COE

Property Number: 31200940016

Status: Unutilized

Reasons: Extensive deterioration

9 Bldgs.

Philpott Lake & Dam

Bassett VA 24055

Landholding Agency: COE

Property Number: 31200940017

Status: Unutilized

Directions: 15640, 16753, 16775, 16883, 18840, 18854, 18835, 16749, 15636

Reasons: Extensive deterioration

Bldgs. 17454, 17455

John Kerr Lake & Dam

Boydton VA 23917

Landholding Agency: COE

Property Number: 31200940018

Status: Unutilized

Reasons: Extensive deterioration

Bldg. TR-CO1

Tailrace Park

Mecklenberg VA 23917

Landholding Agency: COE

Property Number: 31201020006

Status: Unutilized

Reasons: Extensive deterioration

JHK-18213

John H. Kerr Lake & Dam

Mecklenburg VA 23917

Landholding Agency: COE

Property Number: 31201020013

Status: Unutilized

Reasons: Extensive deterioration

Comfort Station/JHK-17452

John Kerr Lake & Dam

Mecklenburg VA 23917

Landholding Agency: COE

Property Number: 31201030005

Status: Unutilized

Reasons: Extensive deterioration

Training Bldg.

USCG Integrated Support Ctr

Portsmouth Co: Norfolk VA 43703

Landholding Agency: Coast Guard

Property Number: 88200530001

Status: Excess

Reasons: Secured Area

Bldg. 011

Integrated Support Center

Portsmouth Co: Norfolk VA 43703

Landholding Agency: Coast Guard

Property Number: 88200620002

Status: Excess

Reasons: Secured Area

9 Bldgs.

USCG Cape Charles Station

Winters Quarters

Northampton VA 23310

Landholding Agency: Coast Guard

Property Number: 88200740001

Status: Unutilized

Reasons: Extensive deterioration

Navigation Center Trailer

USCG TISCOM

Alexandria VA 22315

Landholding Agency: Coast Guard

Property Number: 88200820003

Status: Excess

Reasons: Secured Area

2 Fiberglass Huts

USCG Training Center

Yorktown VA

Landholding Agency: Coast Guard

Property Number: 88201020001

Status: Excess

Reasons: Secured Area

Washington

Madame Dorion Vault Toilet

McNary Lock & Dam

Walla Walla WA

Landholding Agency: COE

Property Number: 31200920023

Status: Unutilized

Reasons: Extensive deterioration

Chiawana Park Restroom

McNary Lock & Dam

Pasco WA 99301

Landholding Agency: COE

Property Number: 31200920024

Status: Unutilized

Reasons: Extensive deterioration

79 Structures

Hanford Site 100, 300, 400

Richland Co: Benton WA 99352

Landholding Agency: Energy

Property Number: 41200620010

Status: Excess

Directions: Infrastructure Facilities

Reasons: Secured Area

87 Structures

Hanford Site 100, 300, 400

Richland Co: Benton WA 99351

Landholding Agency: Energy

Property Number: 41200620011

Status: Excess

Directions: Mobile Offices

Reasons: Secured Area

139 Structures

Hanford Site 100, 300, 400

Richland Co: Benton WA 99352

Landholding Agency: Energy

Property Number: 41200620012

Status: Excess

Directions: Offices Facilities

Reasons: Secured Area

122 Structures

Hanford Site 100, 300, 400

Richland Co: Benton WA 99352

Landholding Agency: Energy

Property Number: 41200620013

Status: Excess

Directions: Process Facilities

Reasons: Secured Area

West Virginia

Bldg. BLN-01-A-01

Bluestone Lake

Hinton WV 25951

Landholding Agency: COE

Property Number: 31201020007

Status: Unutilized

Reasons: Extensive deterioration

Wisconsin

Bldg. OV1

USCG Station

Bayfield WI 54814

Landholding Agency: Coast Guard

Property Number: 88200620001

Status: Excess

Reasons: Secured Area

Land

Arizona

58 acres

VA Medical Center

500 Highway 89 North

Prescott Co: Yavapai AZ 86313

Landholding Agency: VA

Property Number: 97190630001

Status: Unutilized

Reasons: Floodway

20 acres

VA Medical Center

500 Highway 89 North

Prescott Co: Yavapai AZ 86313

Landholding Agency: VA

Property Number: 97190630002

Status: Underutilized

Reasons: Floodway

Florida

Wildlife Sanctuary, VAMC

10,000 Bay Pines Blvd.

Bay Pines Co: Pinellas FL 33504

Landholding Agency: VA

Property Number: 97199230004

Status: Underutilized

Reasons: Other—Inaccessible

Kentucky

Tract 4626

Barkley, Lake, Kentucky and Tennessee

Donaldson Creek Launching Area

Cadiz Co: Trigg KY 42211

Landholding Agency: COE

Property Number: 31199010030

Status: Underutilized

Directions: 14 miles from U.S. Highway 68.

Reasons: Floodway

Tract AA-2747

Wolf Creek Dam and Lake Cumberland

U.S. HWY. 27 to Blue John Road

Burnside Co: Pulaski KY 42519

Landholding Agency: COE

Property Number: 31199010038

Status: Underutilized

Reasons: Floodway

Tract AA-2726

Wolf Creek Dam and Lake Cumberland

KY HWY. 80 to Route 769

Burnside Co: Pulaski KY 42519

Landholding Agency: COE

Property Number: 31199010039

Status: Underutilized

Reasons: Floodway

Tract 1358

Barkley Lake, Kentucky and Tennessee

Eddyville Recreation Area

Eddyville Co: Lyon KY 42038

Landholding Agency: COE

Property Number: 31199010043

Status: Excess

Directions: U.S. Highway 62 to State highway 93

Reasons: Floodway

Barren River Lock No. 1

Richardsville Co: Warren KY 42270

Landholding Agency: COE

Property Number: 31199120008

Status: Unutilized

Reasons: Floodway

Green River Lock No. 3

Rochester Co: Butler KY 42273

Landholding Agency: COE

Property Number: 31199120009

Status: Unutilized

Directions: Off State Hwy. 369, which runs off of Western Ky. Parkway

Reasons: Floodway

Green River Lock No. 4

Woodbury Co: Butler KY 42288

Landholding Agency: COE

Property Number: 31199120014

Status: Underutilized

Directions: Off State Hwy 403, which is off State Hwy 231

Reasons: Floodway

Green River Lock No. 5

Readville Co: Butler KY 42275

Landholding Agency: COE

Property Number: 31199120015

Status: Unutilized

Directions: Off State Highway 185

Reasons: Floodway

Green River Lock No. 6

Brownsville Co: Edmonson KY 42210

Landholding Agency: COE

Property Number: 31199120016

Status: Underutilized

Directions: Off State Highway 259

Reasons: Floodway

Vacant land west of locksite

Greenup Locks and Dam

5121 New Dam Road

Rural Co: Greenup KY 41144

Landholding Agency: COE

Property Number: 31199120017

Status: Unutilized

Reasons: Floodway

Maryland

Tract 131R

Youghiogheny River Lake, Rt. 2, Box 100

Friendsville Co: Garrett MD

Landholding Agency: COE

Property Number: 31199240007

Status: Underutilized

Reasons: Floodway

Minnesota

Portion/Tract Wa-63

Wabasha MN

Landholding Agency: COE

Property Number: 31200940006

Status: Unutilized

Reasons: Other—inaccessible

3.85 acres (Area #2)

VA Medical Center

4801 8th Street

St. Cloud Co: Stearns MN 56303

Landholding Agency: VA

Property Number: 97199740004

Status: Unutilized

Reasons: Other—landlocked

7.48 acres (Area #1)

VA Medical Center

4801 8th Street

St. Cloud Co: Stearns MN 56303

Landholding Agency: VA

Property Number: 97199740005

Status: Underutilized

Reasons: Secured Area

Mississippi

Parcel 1

Grenada Lake

Section 20

Grenada Co: Grenada MS 38901-0903

Landholding Agency: COE

Property Number: 31199011018

Status: Underutilized

Reasons: Within airport runway clear zone

Missouri

Ditch 19, Item 2, Tract No. 230

St. Francis Basin Project

2½ miles west of Malden

null Co: Dunklin MO

Landholding Agency: COE

Property Number: 31199130001

Status: Unutilized

Reasons: Floodway

Montana

Sewage Lagoons/40 acres

VA Center

Ft. Harrison MT 59639

Landholding Agency: VA

Property Number: 97200340007

Status: Excess

Reasons: Floodway

New York

Tract 1

VA Medical Center

Bath Co: Steuben NY 14810

Landholding Agency: VA

Property Number: 97199010011

Status: Unutilized

Directions: Exit 38 off New York State Route 17.

Reasons: Secured Area

Tract 2

VA Medical Center

Bath Co: Steuben NY 14810

Landholding Agency: VA

Property Number: 97199010012

Status: Underutilized

Directions: Exit 38 off New York State Route 17.

Reasons: Secured Area

Tract 3

VA Medical Center

Bath Co: Steuben NY 14810

Landholding Agency: VA

Property Number: 97199010013

Status: Underutilized

Directions: Exit 38 off New York State Route 17.

Reasons: Secured Area

Tract 4

VA Medical Center

Bath Co: Steuben NY 14810

Landholding Agency: VA

Property Number: 97199010014

Status: Unutilized

Directions: Exit 38 off New York State Route 17.

Reasons: Secured Area

Ohio

Mosquito Creek Lake

Everett Hull Road Boat Launch

Cortland Co: Trumbull OH 44410-9321

Landholding Agency: COE

Property Number: 31199440007

Status: Underutilized

Reasons: Floodway

Mosquito Creek Lake

Housel—Craft Rd., Boat Launch

Cortland Co: Trumbull OH 44410-9321

Landholding Agency: COE

Property Number: 31199440008

Status: Underutilized

Reasons: Floodway

36 Site Campground

German Church Campground

Berlin Center Co: Portage OH 44401-9707

Landholding Agency: COE

Property Number: 31199810001

Status: Unutilized

Reasons: Floodway

Pennsylvania

Lock and Dam #7

Monongahela River

Greensboro Co: Greene PA

Landholding Agency: COE

Property Number: 31199011564

Status: Unutilized

Directions: Left hand side of entrance roadway to project

Reasons: Floodway

Mercer Recreation Area

Shenango Lake

Transfer Co: Mercer PA 16154

Landholding Agency: COE

Property Number: 31199810002

Status: Unutilized

Reasons: Floodway

Tract No. B-212C

Upstream from Gen. Jadwin Dam

Honesdale Co: Wayne PA 18431

Landholding Agency: COE

Property Number: 31200020005

Status: Unutilized

Reasons: Floodway

Tennessee

Brooks Bend

Cordell Hull Dam and Reservoir

Highway 85 to Brooks Bend Road

Gainesboro Co: Jackson TN 38562

Landholding Agency: COE

Property Number: 21199040413

Status: Underutilized

Directions: Tracts 800, 802-806, 835-837, 900-902, 1000-1003, 1025

Reasons: Floodway

Cheatham Lock and Dam

Highway 12

Ashland City Co: Cheatham TN 37015

Landholding Agency: COE

Property Number: 21199040415

Status: Underutilized

Directions: Tracts E-513, E-512-1 and E-512-2

Reasons: Floodway

Tract 2321

J. Percy Priest Dam and Reservoir

Murfreesboro Co: Rutherford TN 37130

Landholding Agency: COE

Property Number: 31199010935

Status: Excess

Directions: South of Old Jefferson Pike

Reasons: Other—landlocked

Tract 6737

Blue Creek Recreation Area

Barkley Lake, Kentucky and Tennessee

Dover Co: Stewart TN 37058

Landholding Agency: COE

Property Number: 31199011478

Status: Underutilized

Directions: U.S. Highway 79/TN Highway 761

Reasons: Floodway

Tracts 3102, 3105, and 3106

Brimstone Launching Area

Cordell Hull Lake and Dam Project

Gainesboro Co: Jackson TN 38562

Landholding Agency: COE

Property Number: 31199011479

Status: Excess

Directions: Big Bottom Road

Reasons: Floodway

Tract 3507

Proctor Site

Cordell Hull Lake and Dam Project

Celina Co: Clay TN 38551

Landholding Agency: COE

Property Number: 31199011480

Status: Unutilized

Directions: TN Highway 52

Reasons: Floodway

Tract 3721

Obey

Cordell Hull Lake and Dam Project

Celina Co: Clay TN 38551

Landholding Agency: COE

Property Number: 31199011481

Status: Unutilized

Directions: TN Highway 53

Reasons: Floodway

Tracts 608, 609, 611 and 612

Sullivan Bend Launching Area

Cordell Hull Lake and Dam Project

Carthage Co: Smith TN 37030

Landholding Agency: COE

Property Number: 31199011482

Status: Underutilized

Directions: Sullivan Bend Road

Reasons: Floodway

Tracts 1710, 1716 and 1703

Flynns Lick Launching Ramp

Cordell Hull Lake and Dam Project

Gainesboro Co: Jackson TN 38562

Landholding Agency: COE

Property Number: 31199011484

Status: Underutilized

Directions: Whites Bend Road

Reasons: Floodway

Tract 1810

Wartrace Creek Launching Ramp

Cordell Hull Lake and Dam Project

Gainesboro Co: Jackson TN 38551

Landholding Agency: COE

Property Number: 31199011485

Status: Underutilized

Directions: TN Highway 85

Reasons: Floodway

Tract 2524

Jennings Creek

Cordell Hull Lake and Dam Project

Gainesboro Co: Jackson TN 38562

Landholding Agency: COE

Property Number: 31199011486

Status: Unutilized

Directions: TN Highway 85

Reasons: Floodway

Tracts 2905 and 2907

Webster

Cordell Hull Lake and Dam Project

Gainesboro Co: Jackson TN 38551

Landholding Agency: COE

Property Number: 31199011487

Status: Unutilized

Directions: Big Bottom Road

Reasons: Floodway

Tracts 2200 and 2201

Gainesboro Airport

Cordell Hull Lake and Dam Project

Gainesboro Co: Jackson TN 38562

Landholding Agency: COE

Property Number: 31199011488

Status: Underutilized

Directions: Big Bottom Road

Reasons: Within airport runway clear zone, Floodway

Tracts 710C and 712C

Sullivan Island

Cordell Hull Lake and Dam Project

Carthage Co: Smith TN 37030

Landholding Agency: COE

Property Number: 31199011489

Status: Unutilized

Directions: Sullivan Bend Road

Reasons: Floodway

Tract 2403, Hensley Creek

Cordell Hull Lake and Dam Project

Gainesboro Co: Jackson TN 38562

Landholding Agency: COE

Property Number: 31199011490

Status: Unutilized

Directions: TN Highway 85

Reasons: Floodway

Tracts 2117C, 2118 and 2120

Cordell Hull Lake and Dam Project

Trace Creek

Gainesboro Co: Jackson TN 38562

Landholding Agency: COE

Property Number: 31199011491

Status: Unutilized

Directions: Brooks Ferry Road

Reasons: Floodway

Tracts 424, 425 and 426

Cordell Hull Lake and Dam Project

Stone Bridge

Carthage Co: Smith TN 37030

Landholding Agency: COE

Property Number: 31199011492

Status: Unutilized

Directions: Sullivan Bend Road

Reasons: Floodway

Tract 517

J. Percy Priest Dam and Reservoir

Suggs Creek Embayment

Nashville Co: Davidson TN 37214

Landholding Agency: COE

Property Number: 31199011493

Status: Underutilized

Directions: Interstate 40 to S. Mount Juliet Road.

Reasons: Floodway

Tract 1811

West Fork Launching Area

Smyrna Co: Rutherford TN 37167

Landholding Agency: COE

Property Number: 31199011494

Status: Underutilized

Directions: Florence road near Enon Springs Road

Reasons: Floodway

Tract 1504

J. Perry Priest Dam and Reservoir

Lamon Hill Recreation Area

Smyrna Co: Rutherford TN 37167

Landholding Agency: COE

Property Number: 31199011495

Status: Underutilized

Directions: Lamon Road

Reasons: Floodway

Tract 1500

J. Perry Priest Dam and Reservoir

Pools Knob Recreation

Smyrna Co: Rutherford TN 37167

Landholding Agency: COE

Property Number: 31199011496

Status: Underutilized

Directions: Jones Mill Road

Reasons: Floodway

Tracts 245, 257, and 256

J. Perry Priest Dam and Reservoir

Cook Recreation Area

Nashville Co: Davidson TN 37214

Landholding Agency: COE

Property Number: 31199011497

Status: Underutilized

Directions: 2.2 miles south of Interstate 40 near Saunders Ferry Pike

Reasons: Floodway

Tracts 107, 109 and 110

Cordell Hull Lake and Dam Project

Two Prong

Carthage Co: Smith TN 37030

Landholding Agency: COE

Property Number: 31199011498

Status: Unutilized

Directions: U.S. Highway 85

Reasons: Floodway

Tracts 2919 and 2929

Cordell Hull Lake and Dam Project

Sugar Creek

Gainesboro Co: Jackson TN 38562

Landholding Agency: COE

Property Number: 31199011500

Status: Unutilized

Directions: Sugar Creek Road

Reasons: Floodway

Tracts 1218 and 1204

Cordell Hull Lake and Dam Project

Granville—Alvin Yourk Road

Granville Co: Jackson TN 38564

Landholding Agency: COE

Property Number: 31199011501

Status: Unutilized

Reasons: Floodway

Tract 2100

Cordell Hull Lake and Dam Project

Galbreaths Branch

Gainesboro Co: Jackson TN 38562

Landholding Agency: COE

Property Number: 31199011502

Status: Unutilized

Directions: TN Highway 53

Reasons: Floodway

Tract 104 et al.

Cordell Hull Lake and Dam Project

Horshoe Bend Launching Area

Carthage Co: Smith TN 37030

Landholding Agency: COE

Property Number: 31199011504

Status: Underutilized

Directions: Highway 70 N

Reasons: Floodway

Tracts 510, 511, 513 and 514

J. Percy Priest Dam and Reservoir Project

Lebanon Co: Wilson TN 37087

Landholding Agency: COE

Property Number: 31199120007

Status: Underutilized

Directions: Vivrett Creek Launching Area, Alvin Sperry Road

Reasons: Floodway

Tract A-142, Old Hickory Beach

Old Hickory Blvd.

Old Hickory Co: Davidson TN 37138

Landholding Agency: COE

Property Number: 31199130008

Status: Underutilized

Reasons: Floodway

Tract D, 7 acres

Cheatham Lock

Nashville Co: Davidson TN 37207

Landholding Agency: COE

Property Number: 31200020006

Status: Underutilized

Reasons: Floodway

Tract F-608

Cheatham Lock

Ashland Co: Cheatham TN 37015

Landholding Agency: COE

Property Number: 31200420021

Status: Unutilized

Reasons: Floodway

Tracts G702-G706

Cheatham Lock

Ashland Co: Cheatham TN 37015

Landholding Agency: COE

Property Number: 31200420022

Status: Unutilized

Reasons: Floodway

6 Tracts

Shutes Branch Campground

Lakewood Co: Wilson TN

Landholding Agency: COE

Property Number: 31200420023

Status: Unutilized

Reasons: Floodway

Texas

Tracts 104, 105-1, 105-2

Joe Pool Lake

null Co: Dallas TX

Landholding Agency: COE

Property Number: 31199010397

Status: Underutilized

Reasons: Floodway

Part of Tract 201-3

Joe Pool Lake

null Co: Dallas TX

Landholding Agency: COE

Property Number: 31199010398

Status: Underutilized

Reasons: Floodway

Part of Tract 323

Joe Pool Lake

null Co: Dallas TX

Landholding Agency: COE

Property Number: 31199010399

Status: Underutilized

Reasons: Floodway

Tract 702-3

Granger Lake

Route 1, Box 172

Granger Co: Williamson TX 76530-9801

Landholding Agency: COE

Property Number: 31199010401

Status: Unutilized

Reasons: Floodway

Tract 706

Granger Lake

Route 1, Box 172

Granger Co: Williamson TX 76530-9801

Landholding Agency: COE

Property Number: 31199010402

Status: Unutilized

Reasons: Floodway

West Virginia

Morgantown Lock and Dam

Box 3 RD #2

Morgantown Co: Monongahelia WV 26505

Landholding Agency: COE

Property Number: 31199011530

Status: Unutilized

Reasons: Floodway

London Lock and Dam

Route 60 East

Rural Co: Kanawha WV 25126

Landholding Agency: COE

Property Number: 31199011690

Status: Unutilized

Directions: 20 miles east of Charleston, W. Virginia.

Reasons: Other—.03 acres; very narrow strip of land

Portion of Tract #101

Buckeye Creek

Sutton Co: Braxton WV 26601

Landholding Agency: COE

Property Number: 31199810006

Status: Excess

Reasons: Other—inaccessible

[FR Doc. 2010-21062 Filed 8-26-10; 8:45 am]

BILLING CODE 4210-67-P